DEPARTMENT OF HEALTH AND HUMAN SERVICES

Administration for Children and Families

Notice of Public Comment on the Proposed Adoption of ANA Program Policies and Procedures

SUMMARY: Pursuant to section 814 of the Native American Programs Act of 1974, as amended, 42 U.S.C. 2991b-1, the Administration for Native Americans (ANA) herein describes its proposed interpretive rules, general statements of policy and rules of agency procedure or practice relating to the Social and Economic Development Strategies (SEDS), Language Preservation and Maintenance (hereinafter referred to as Native Language), and Environmental Regulatory Enhancement (hereinafter referred to as Environmental) programs. Under the statute, ANA is required to provide members of the public an opportunity to comment on proposed changes in interpretive rules, statements of general policy, and rule of agency procedure or practice and to give notice of the final adoption of such changes at least 30 days before the changes become effective. The notice also provides additional information about ANA's plans for administering these programs.

DATES: The deadline for receipt of comments is November 28, 2003.

ADDRESSES: Comments in response to this notice should be addressed to Sheila Cooper, Director of Program Operations, Administration for Native Americans, 370, L'Enfant Promenade, SW., Mail Stop: Aerospace 8-West, Washington, DC 20447. Delays may occur in mail delivery to Federal offices; therefore, a copy of comments should also be faxed to: (202) 690-7441. Comments will be available for inspection by members of the public at Administration for Native Americans, Aerospace Center, 901 D Street SW., Washington, DC 20447.

FOR FURTHER INFORMATION CONTACT: Sheila Cooper, 202-690-7732.

SUPPLEMENTARY INFORMATION: Section 814 of the Native American Programs Act of 1974, (the Act), as amended, requires the Administration for Native Americans (ANA) to provide notice of its proposed interpretive rules, statements of policy and rule of agency organization, procedure or practice. These proposed clarifications and modifications will appear in the FY 2004 SEDS Program Announcement and the announcements for the Native Language and Environmental programs. This notice and the draft ANA SEDS Program Announcement, which is part of this notice, serve to fulfill this requirement.

Additional Information

1. Policy on Deadline Date for Applications

For FY 2004, ANA will have one closing date for the SEDS Program or other special initiative undertaken pursuant to section 803(a) of the Native American Programs Act of 1974, 42 U.S.C. 2991b and one closing date each for the Alaska SEDS Program, Native Language program, and the Environmental program. (Legal authority: Sections 803 (a) and (d) and 803C of the Native Americans Programs Act of 1974, as amended, 42 U.S.C. 2991b and 2991b-3)

2. Receipt of Applications

ANA's program announcements will now require that all applications for funding be “received by” the Administration for Native Americans (ANA) by the closing date. Consistent with past practices, ANA will not acknowledge receipt of applications. Previously, ANA accepted applications for funding if they were postmarked on or before the closing date. The change to receipt of the application by the closing date is expected to reduce disputes regarding postmarks and late-arriving applications. This change will also ensure ANA has the appropriate number of skilled peer panel reviewers available to review submitted applications. Applications received after the published closing date as stipulated in the published announcement will not be considered. The new program announcement closing schedules will allow ANA to release all funding to communities earlier in the fiscal year; provide applicants additional time to receive agency comments and seek free technical assistance before the next competition in the program. Additionally, ANA grantees will have the opportunity to implement projects in a timely manner; recruit personnel to support the grantee's objectives; and decrease the number of requests for no cost grant extensions. This modification will afford ANA the opportunity to perform grant administration and program monitoring and evaluation activities that support new and non-competing continuation grants. (Legal authority: Sections 803 (a) and (d) and 803C of the Native Americans Programs Act of 1974, as amended, 42 U.S.C. 2991b and 2991b-3)

3. Access to Program Announcement and Application Materials

The program announcement and the application materials are available on the ANA website at: http://www.acf.hhs.gov/programs/ana. The material on the website is provided as information only. ANA makes all reasonable efforts to assure that the Website is complete and accurate. The applicant bears sole responsibility, to assure that the copy downloaded and/or printed from any source is accurate and complete. In case of a conflict between the content of material downloaded from the web site and the material appearing in the Federal Register, the notice published in the Federal Register shall take precedence. (Legal authority: Sections 803 (a) and (d) and 803C of the Native Americans Programs Act of 1974, as amended, 42 U.S.C. 2991b and 2991b-3)

4. Application Submission Requirements

The format of the application for funding is now standardized. The new application format will help applicants focus on the type of information and data required to support an application for funding. ANA will implement a page limitation requirement to enable a thorough review of the application. (See 4 (a) and (b)). ANA will implement these page requirements with a limit on the number of pages for each section. These modifications to the announcement will reduce the amount of documentation applicants need to submit and it will both strengthen and streamline the peer panel review process to allow reviewers to focus on the project and application content. Additionally, program announcement standardization will prepare ANA and applicants for the Federal Government's Electronic Grant Application submission initiative and process. (Legal authority: Sections 803 (a) and (d) and 803C of the Native Americans Programs Act of 1974, as amended, 42 U.S.C. 2991b and 2991b-3)

4. (a) Organization and Preparation of Application: Due to the intensity and pace of the application review and evaluation process, ANA has standardized the application submission format. The new application submission format for the SEDS program is included in this notice.

4. (b) ANA Application Format: ANA will now require all applications to be labeled with a Section Heading in compliance with the format provided in the program announcement. This format applies to all applicants submitting applications for funding in the programs covered by this notice. All pages submitted (including Government Forms, certifications and assurances) should be numbered consecutively. The paper size shall be 8½ × 11 inches, line spacing shall be a space and a half (1.5 line spacing), printed only on one side, and have a half-inch margin on all sides of the paper. The font size should be no smaller than 12-point and the font type shall be Times New Roman. These requirements do not apply to the project Abstract Form, Letters of Commitment, the Table of Contents, and the Objective Work Plan. A complete application for assistance under ANA's Program Announcements consists of Three Parts. Part One is the SF 424, Required Government Forms, and other required documentation noted in the program announcement. Part Two of the application is a description of the project's substance. This section of the application may not exceed 45 pages. Part Three of the application is the Appendix. This section of the application may not exceed 20 pages (the exception to this 20-page limit applies only to projects that require, if relevant to the project, a Business Plan or any Third-Party Agreements). (Legal authority: Sections 803 (a) and (d) and 803C of the Native Americans Programs Act of 1974, as amended, 42 U.S.C. 2991b and 2991b-3)

4. (c) Explanation of Project Period: Under ANA's new program announcements, project periods will be 12 months, 17 months, 24 month, or 36 months. ANA currently funds projects spanning a 36-month period. Exception: Native Language Planning Grants (Category I) will continue to be 12 or 17 project periods. This notice clarifies the specific project periods that ANA will fund. (Legal authority: Sections 803 (a) and (d) and 803C of the Native Americans Programs Act of 1974, as amended, 42 U.S.C. 2991b and 2991b-3)

4. (d) Application Review Criteria: ANA has expanded the review criteria to allow for a more equitable distribution of points during the application review and competition process. In the FY 2004 Program Announcement, ANA will improve the competitive review process through the use of six criteria that will evenly distribute evaluation points. The use of six criteria will standardize the review of each application and distribute the number of points more equitably. Based on the ACF Uniform Project Description, ANA's criteria categories are Project Introduction; Objectives and Need for Assistance; Project Approach; Organizational Capacity; Results and Benefits Expected; and Budget and Budget Narrative. (Legal authority: Sections 803(a) and (d) and 803C of the Native Americans Programs Act of 1974, as amended, 42 U.S.C. 2991b and 2991b-3)

5. Program Areas of Interest

The Administration for Children and Families supports and fosters strong families and healthy communities. In the FY 2004 Program Announcements, ANA has identified program Areas of Interest to complement other HHS and ACF programs. For example, in ANA's SEDS program the Economic Development areas of interest support activities that will provide business and employment opportunities and options necessary to build the foundation of healthy communities and strong families. Under Social Development, the program areas of interest support families, elders, youth development, healthy marriage, and individuals with disabilities. Furthermore, under Governance, funding may be used for leadership and management training or to assist eligible applicants in the development of laws, regulations, codes, policies, and practices that support and promote community based activities that lead to self sufficiency. The Program Areas of Interest are projects that ANA considers supportive to Native American communities. Although eligibility for funding is not restricted to projects of the type listed under this program announcement, these Areas of Interest are ones which ANA sees as particularly beneficial to the development of healthy Native American communities. (Legal authority: Sections 803(a) of the Native Americans Programs Act of 1974, as amended, 42 U.S.C. 2991b)

6. Policy on Results and Benefits

ANA's program announcement will now offer an opportunity for applicants to choose from six project performance indicators. For example, indicators may be: the number of jobs created or retained; the strengthening and modification of tribal government activities such as the implementation of codes and ordinances; the number of people trained; the dollar amount of non-federal resources leveraged per grantee; the number and type of community, federal and state partnerships involved in the project; the dollar amount of private sector investment integrated into the project; and the number of community-based small businesses established. This quantitative and qualitative data will be used monitor grantee performance and to communicate to the public and Congress on the impact and success of locally funded ANA projects. (Legal authority: Sections 803(a) and (d) and 803C of the Native Americans Programs Act of 1974, as amended, 42 U.S.C. 2991b and 2991b-3)

7. ANA Funding Restrictions

ANA does not fund:

• Activities in support of litigation against the United States Government that are unallowable under OMB Circulars A-87 and A-122. (Legal authority: Sections 803(a) and (d), and 803C of the Native Americans Programs Act of 1974, as amended, 42 U.S.C. 2991b, and 2991b-3; 45 CFR 1336.50(a); 45 CFR 74.27 and 92. 22; OMB Circular A-122, Attachment B, Paragraph 10(g) and OMB Circular A-87, Attachment B, Paragraph 14(b))

• Duplicative projects or does not allow any one community to receive a disproportionate share of the funds available for award. When making decisions on awards of grants the Agency will consider whether the project is essentially identical or similar, in whole or significant part, to projects in the same community previously funded or being funded under the same competition. The Agency will also consider whether the grantee is already receiving funding for a SEDS, Language, or Environmental project from ANA. The Agency will also take into account in making funding decisions whether a proposed project would require funding on indefinite or recurring basis. This determination will be made after it is determined whether the application meets the requirements for eligibility as set forth in 45 CFR 1336, Subpart C, but before funding decisions are complete. (Legal authority: Sections 803(a) and (d) and 803C of the Native Americans Programs Act of 1974, as amended, 42 U.S.C. 2991b and 2991b-3)

• Projects in which a grantee would provide training and/or technical assistance (T/TA) to other tribes or Native American organizations that are otherwise eligible to apply. However, ANA will fund T/TA requested by a grantee for its own use or for its members' use (as in the case of a consortium), when the T/TA is necessary to carry out project objectives. (Legal authority: Sections 803(a) and (d) and 803C of the Native Americans Programs Act of 1974, as amended, 42 U.S.C. 2991b and 2991b-3; 45 CFR 1336.33(b)(1))

• The purchase of real property or construction because those activities are not authorized by the Native American Programs Act of 1974, as amended. (Legal authority: Sections 803(a) and (d) and 803C of the Native Americans Programs Act of 1974, as amended, 42 U.S.C. 2991b and 2991b-3; 45 CFR 1336.33(b)(7))

• Objectives or activities to support core administration activities of an organization. However, functions and activities that are clearly project related are eligible for grant funding. Under Alaska SEDS projects, ANA will consider funding core administrative capacity building projects at the village government level if the village does not have governing systems in place. (Legal authority: Sections 803(a) and (d) and 803C of the Native Americans Programs Act of 1974, as amended, 42 U.S.C. 2991b and 2991b-3 and 45 CFR 1336.33(b)(4))

• Costs associated with fund raising, including financial campaigns, endowment drives, solicitation of gifts and bequests, and similar expenses incurred solely to raise capital or obtain contributions are unallowable under an ANA grant award. (Legal authority: Sections 803(a) and (d) and 803C of the Native Americans Programs Act of 1974, as amended, 42 U.S.C. 2991b and 2991b-3; 45 CFR 1336.50; 45 CFR 74.27; OMB Circular A-122, Attachment B, Paragraph 23; OMB Circular A-87, Attachment B, Paragraph 21.)

• Major renovation or alteration because those activities are not authorized under the Native American Programs Act of 1974, as amended. (Legal authority: Sections 803(a) and (d) and 803C of the Native Americans Programs Act of 1974, as amended, 42 U.S.C. 2991b and 2991b-3)

• Projects originated and designed by consultants who provide a major role for themselves and are not members of the applicant organization, Tribe, or village. (Legal authority: Sections 803(a) and (d) and 803C of the Native Americans Programs Act of 1974, as amended, 42 U.S.C. 2991b and 2991b-3)

• Project activities that do not further the three interrelated ANA goals of economic development, social development and governance or meet the purpose of this program announcement. (Legal authority: Sections 803(a) and (d) and 803C of the Native Americans Programs Act of 1974, as amended, 42 U.S.C. 2991b and 2991b-3; 45 CFR 1336.33(b)(5))

8. Administrative Policies: Applicants Must Comply With the Following Administrative Policies

• An applicant must provide a 20% non-federal match of the approved project costs. Applications originating from American Samoa, Guam, or the Commonwealth of the Northern Mariana Islands are covered under section 501(d) of Public Law 95-134, as amended (48 U.S.C. 1469a), under which HHS waives any requirement for matching funds under $200,000 (including in-kind contributions). (Legal authority: Sections 803(a) and (d) and 803C of the Native Americans Programs Act of 1974, as amended, 42 U.S.C. 2991b and 2991b-3; 45 CFR 1336.50(b))

• An application from a Tribe, Alaska Native Village or Native American organization must be from the governing body. (Legal authority: Sections 803(a) and (d) and 803C of the Native Americans Programs Act of 1974, as amended, 42 U.S.C. 2991b and 2991b-3)

• A non-profit organization submitting an application must submit proof of its non-profit status at the time of submission. The non-profit organization shall submit one of the following verifiable documents: (i) A copy of the applicant's listing in the Internal Revenue Service's (IRS) most recent list of tax exempt organizations described in Section 501(c) (3) of the IRS code or (ii) a copy of the currently valid IRS tax exemption certificate, or (iii) a copy of the articles of incorporation bearing the seal of the State or federally-recognized Tribe in which the corporation or association is domiciled. Organizations incorporating in American Samoa are cautioned that the Samoan government relies exclusively upon IRS determination of non-profit status; therefore, articles of incorporation approved by the Samoan government do not establish non-profit status for the purpose of ANA eligibility. (Legal authority: Sections 803(a) and (d) and 803C of the Native Americans Programs Act of 1974, as amended, 42 U.S.C. 2991b and 2991b-3)

• If the applicant, other than a Tribe or an Alaska Native Village government, is proposing a project benefiting Native Americans or Native Alaskans, or both, it must provide assurance that its duly elected or appointed board of directors is representative of the community to be served. To establish compliance, an applicant should provide supporting documentation and assurance that its duly elected or appointed board of directors is majority Native American. (Legal authority: Sections 803(a) and (d) and 803C of the Native Americans Programs Act of 1974, as amended, 42 U.S.C. 2991b and 2991b-3; 45 CFR 1336.33(a))

• Applicants must describe how the proposed project objectives and activities relate to a locally determined strategy. (Legal authority: Sections 803(a) and (d) and 803C of the Native Americans Programs Act of 1974, as amended, 42 U.S.C. 2991b and 2991b-3)

• Proposed projects must consider the maximum use of all available community-based resources. (Legal authority: Sections 803(a) and (d) and 803C of the Native Americans Programs Act of 1974, as amended, 42 U.S.C. 2991b and 2991b-3)

• Proposed projects must present a strategy to overcome the challenges that hinder movement toward self-sufficiency in the community. (Legal authority: Sections 803(a) and (d) and 803C of the Native Americans Programs Act of 1974, as amended, 42 U.S.C. 2991b and 2991b-3)

• Applicants proposing an Economic Development project should address the project's viability. A business plan, if applicable, must be included to describe the project's feasibility, cash flow, and approach for the implementation and marketing of the business. (Legal authority: Sections 803(a) and (d) and 803C of the Native Americans Programs Act of 1974, as amended, 42 U.S.C. 2991b and 2991b-3)

• ANA will not accept applications from tribal components, which are tribally authorized divisions of a larger tribe, which are not approved by the governing body of the tribe. (Legal authority: Sections 803(a) and (d) and 803C of the Native Americans Programs Act of 1974, as amended, 42 U.S.C. 2991b and 2991b-3; 45 CFR 1336.33(a))

9. DUNS Numbers (New Requirement To Receive Grant Awards)

On June 27, 2003, the Office of Management and Budget published in the Federal Register a new Federal policy applicable to all Federal grant applicants, after giving notice in the Federal Register on June 27, 2002 and providing opportunity for public comment. The policy requires all Federal grant applicants to provide a Dun and Bradstreet Data Universal Numbering System (DUNS) number when applying for Federal grants or cooperative agreements on or after October 1, 2003. The DUNS number will be required whether an applicant is submitting a paper application or using the government-wide electronic portal (http://www.Grants.Gov). A DUNS number will be required for every application for a new award or renewal/continuation of an award, including applications or plans under mandatory grant programs, submitted on or after October 1, 2003. A DUNS number may be acquired at no cost by calling the dedicated toll-free DUNS number request line on 1-866-705-5711 or you may request a number on-line at http://www.dnb.com.

10. Community and Faith-based Organizations

The Administration for Children and Families through the Administration for Native Americans supports and fosters strong families and healthy communities under four initiatives. ANA encourages applications from eligible community and faith-based organizations that (1) provide services directly to Native American people; (2) organizations that support rural communities; (3) provide prevention and intervention programs for youth and families; and (4) promote healthy relationships to strengthen families.

11. Community-Based Projects

ANA's program announcements will emphasize partnerships and community-based projects. The intent of this change is to increase the number of grants to local community organizations, to encourage new partnerships with public and private community-based organizations. (Legal authority: Sections 803(a) and (d) and 803C of the Native Americans Programs Act of 1974, as amended, 42 U.S.C. 2991b and 2991b-3)

12. Funding Thresholds

The ANA will increase funding ceilings under the Native Language program for Category I Planning and Category II Design and Implementation grants. The minimum grant amount for Native Language grants will be $25,000. The ceiling amount for Category I grants will increase from $60,000 to $100,000. The ceiling amount for Category II grants will increase from $150,000 to $175,000. The increase in funding amounts for Native Language grants will support the effective assessment of native languages. It will also provide applicants the opportunity to incorporate new technologies necessary to design, implement, and preserve Native language and culture. Grants awarded under the Native Language program that produce audio or print media will now include a stipulation that a copy of the product be provided to ANA for the Language Repository. Federally-recognized Tribes have the option to not submit project products. The funding ceiling for Social and Economic Development Strategies (SEDS) will be reduced from $1 million to $500,000. The minimum grant award amount will be $25,000. This adjustment of the minimum and maximum funding levels is due to the demand for SEDS project funding. These changes will result in additional community-based social and economic development project grant awards under the SEDS program. (Legal authority: Sections 803(a) and (d) and 803C of the Native Americans Programs Act of 1974, as amended, 42 U.S.C. 2991b and 2991b-3)

13. Availability of Multi-Year Funding

Applicants may apply for projects of up to 36 months in duration. A multi-year project, one extending more than 12 months or 17 months, affords grantees the opportunity to undertake more complex and in-depth projects. Applicants are encouraged to develop multi-year projects. However, applicants should note that a multi-year project is a project on a single theme that requires more than 12 or 17 months to complete. It is not a series of unrelated projects presented in chronological order over a three-year period. Funding after the first budget period of a multi-year project will be non-competitive. However, multi-year funding will be contingent upon: (1) The availability of Federal funds; (2) the grantee's progress to achieve the objectives and activities outlined in the Objective Work Plan; (3) ANA's continued belief that the project is in the public interest; and (4) the grantee is in compliance with applicable statutory and grant reporting requirements. Multi-year grant awards are subject to the availability of funds and a determination by ANA that the grantee has successfully completed its prior year objectives. Exception: Native Language Category I: Planning Grants will remain 12 or 17 month projects. (Legal authority: Sections 803(a) and (d) and 803C of the Native Americans Programs Act of 1974, as amended, 42 U.S.C. 2991b and 2991b-3)

14. Applications from Multiple Organizations in the Same Geographic Area

ANA will accept applications for funding and award grants to multiple organizations located in the same geographic area, provided the activities are not duplicative of previously funded ANA projects in the same geographic area or to the same grantee. Previously, under each competitive program area, ANA accepted one application that served or impacted a reservation, Tribe or Native American community. The reason for this change is to expand and support large Native American rural and urban communities that provide a variety of services in the same geographic area. Although Tribes are limited to three simultaneous ANA grants (one each under SEDS, Native Language and Environmental programs) at any one time, this clarification allows other community based organizations to apply for ANA funding to support on-going community-based efforts, provided the activities do not duplicate currently funded projects serving the same geographic area. (Legal authority: Sections 803(a) and (d) and 803C of the Native Americans Programs Act of 1974, as amended, 42 U.S.C. 2991b and 2991b-3)

15. Program Specific Program Announcements

ANA's FY 2004 Program Announcements will now be program specific. ANA will release separate program announcements for funding opportunities under SEDS, for Language Preservation and Maintenance, Environmental Regulatory Enhancement, and for special initiatives. (Legal authority: Sections 803(a) and (d) and 803C of the Native Americans Programs Act of 1974, as amended, 42 U.S.C. 2991b and 2991b-3)

16. Policy on Training and Technical Assistance

To reduce geographic disparities, ANA's training and technical assistance curriculum and all associated handouts will be standardized. ANA's contracted training and technical assistance providers may provide training in pre-application and project development. Training will be advertised in advance, to ensure prospective applicants have the opportunity to attend. All potential ANA applicants are eligible to receive free training and technical assistance in the SEDS, Language or Environmental program areas. (Legal authority: Sections 804 of the Native Americans Programs Act of 1974, as amended, 42 U.S.C. 2991c)

17. Application Review Criteria

ANA has improved the competitive review process and will now use six criteria that will evenly distribute evaluation points. The use of six criteria will standardize the review of each application and distribute the number of points more equitably. ANA's criteria categories are: Project Introduction; Objectives and Need for Assistance; Project Approach; Organizational Capacity; Results and Benefits Expected; and Budget and Budget Justification. (Legal authority: Sections 803(a) and (d) and 803C of the Native Americans Programs Act of 1974, as amended, 42 U.S.C. 2991b and 2991b-3)

18. Definitions

The following definitions will be used in all ANA program announcements. In the FY 2004 Program Announcement, ANA clarifies many areas that have previously prompted numerous questions and application mistakes from applicants. The ANA program announcement will now include definitions for the following terms:

Authorized Representative: The person or person(s) authorized by Tribal or Organizational resolution to execute documents and other actions required by outside agencies. (Legal authority: Sections 803(a) and (d) and 803C of the Native Americans Programs Act of 1974, as amended, 42 U.S.C. 2991b and 2991b-3)

Budget Period: The interval of time into which the project period is divided for budgetary or funding purposes, and for which a grant is made. A budget period usually lasts one year in a multi-year project period. (Legal authority: Sections 803(a) and (d) and 803C of the Native Americans Programs Act of 1974, as amended, 42 U.S.C. 2991b and 2991b-3)

Community: A group of people residing in the same geographic area that can apply their own cultural and socio-economic values in implementing ANA's program objectives and goals. In discussing the applicant's community, the following information should be provided. (1) A description of the population segment within the community to be served or impacted; (2) the size of the community; (3) geographic description or location, including the boundaries of the community; (4) demographic data on the target population; and (5) the relationship of the community to any larger group or tribe. (Legal authority: Sections 803(a) and (d) and 803C of the Native Americans Programs Act of 1974, as amended, 42 U.S.C. 2991b and 2991b-3)

Community Involvement: How the community participated in the development of the proposed project, how the community will be involved during the project implementation and after the project is completed. Evidence of community involvement can include, but is not limited to, certified petitions, public meeting minutes, surveys, needs assessments, newsletters, special meetings, public Council meetings, public committee meetings, public hearings, and annual meetings with representatives from the community. The applicant should document the community's support of the proposed project. Applications from National and Regional Indian and Native organizations should clearly demonstrate a need for the project, explain how the project originated, identify the beneficiaries, and describe and relate the actual project benefits to the community and organization. National Indian and Native organizations should also identify their membership and specifically discuss how the organization operates and impacts Native American people and communities. (Legal authority: Sections 803(a) and (d) and 803C of the Native Americans Programs Act of 1974, as amended, 42 U.S.C. 2991b and 2991b-3)

Completed Project: A completed project means that the program funded by ANA is finished and the results and outcomes are achieved by the end of the project period. (Legal authority: Sections 803(a) and (d) and 803C of the Native Americans Programs Act of 1974, as amended, 42 U.S.C. 2991b and 2991b-3)

Consortia—Tribal/Village: A group of Tribes or villages that join together either for long-term purposes or for the purpose of an ANA project. Applicant must identify Consortia membership. The Consortia applicant must be the recipient of the funds. A Consortia applicant must be an “eligible entity” as defined by this Program Announcement and the ANA regulations. Consortia applicants should include documentation (a resolution adopted pursuant to the organization's established procedures and signed by an authorized representative) from all consortia members supporting the ANA application. An application from a consortium should have goals and objectives that will create positive impacts and outcomes in the communities of its members. ANA will not fund activities by a consortium of tribes which duplicates activities for which member Tribes also receive funding from ANA. The consortium application should identify the role and responsibility of each participating Consortia member and a copy of the consortia legal agreement or Memoranda of Agreement to support the proposed project. (Legal authority: Sections 803(a) and (d) and 803C of the Native Americans Programs Act of 1974, as amended, 42 U.S.C. 2991b and 2991b-3)

Construction: The initial building of a facility. (Legal authority: Sections 803(a) and (d) and 803C of the Native Americans Programs Act of 1974, as amended, 42 U.S.C. 2991b and 2991b-3)

Core Administration: Salaries and other expenses for those functions that support the applicant's organization as a whole or for purposes that are unrelated to the actual management or implementation of the ANA project. However, salaries and activities that are clearly related to the ANA project are eligible for grant funding. (Legal authority: Sections 803(a) and (d) and 803C of the Native Americans Programs Act of 1974, as amended, 42 U.S.C. 2991b and 2991b-3; 45 CFR 1336.33(b)(4).)

Economic Development: Involves the promotion of the physical, commercial, technological, industrial, and/or agricultural capacities necessary for a sustainable local community. Economic development includes activities and actions that develop sustainable, stable, and diversified private sector local economies. For example, initiatives that support employment options, business opportunities, development and formation of a community's economic infrastructure, laws and policies that result in the creation of businesses and employment options and opportunities that provide for the foundation of healthy communities and strong families. (Legal authority: Sections 803(a) and (d) and 803C of the Native Americans Programs Act of 1974, as amended, 42 U.S.C. 2991b and 2991b-3)

Equipment: Tangible, non-expendable personal property, including exempt property, charged directly to the award having a useful life of more than one year and an acquisition cost of $5,000 or more per unit. However, consistent with recipient policy, lower limits may be established. (Legal authority: Sections 803(a) and (d) and 803C of the Native Americans Programs Act of 1974, as amended, 42 U.S.C. 2991b and 2991b-3; 45 CFR 1336.50(a); 45 CFR 74.2 and 92.3)

Governance: Involves assistance to tribal and Alaska Native village government leaders to increase their ability to execute local control and decision- making over their resources. (Legal authority: Sections 803(a) and (d) and 803C of the Native Americans Programs Act of 1974, as amended, 42 U.S.C. 2991b and 2991b-3)

Implementation Plan: The guidebook the applicant will use in meeting the results and benefits expected for the project. The Implementation Plan provides detailed descriptions of how, when, where, by whom and why activities are proposed for the project and is complemented and condensed by the Objective Work Plan. (Legal authority: Sections 803(a) and (d) and 803C of the Native Americans Programs Act of 1974, as amended, 42 U.S.C. 2991b and 2991b-3)

In-kind Contributions: In-kind contributions are property or services which benefit a federally assisted project or program and which are contributed by the grantee, non-Federal third parties without charge to the grantee, or a cost-type contractor under the grant agreement. Any proposed In-kind match must meet the applicable requirements found in 45 CFR Parts 74 and 92. (Legal authority: Sections 803(a) and (d) and 803C of the Native Americans Programs Act of 1974, as amended, 42 U.S.C. 2991b and 2991b-3)

Letter of Commitment: A third party statement to document the intent to provide specific in-kind contributions or cash to support the applicant. The Letter of Commitment must state the dollar amount (if applicable), the length of time the commitment will be honored, and the conditions under which the organization will support the proposed ANA project. If a dollar amount is included, the amount must be based on market and historical rates charged and paid. The resources to be committed may be human, natural, physical, or financial, and may include other Federal and non-Federal resources. For example, a notice of award from another Federal agency committing $200,000 in construction funding to complement a proposed ANA funded pre-construction activity is evidence of a commitment. Statements about resources which have been committed to support a proposed project made in the application without supporting documentation will be disregarded. (Legal authority: Sections 803(a) and (d) and 803C of the Native Americans Programs Act of 1974, as amended, 42 U.S.C. 2991b and 2991b-3)

Leveraged Resources: The total dollar value of all non-ANA resources that are committed to a proposed ANA project and are supported by documentation that exceeds the 20% non-federal match required for an ANA grant. Such resources may include any natural, financial, and physical resources available within the tribe, organization, or community to assist in the successful completion of the project. An example would be a written letter of commitment from an organization that agrees to provide a supportive action, product, and service, human or financial contribution that will add to the potential success of the project. (Legal authority: Sections 803(a) and (d) and 803C of the Native Americans Programs Act of 1974, as amended, 42 U.S.C. 2991b and 2991b-3)

Multi-purpose Organization: A community-based corporation whose charter specifies that the community designates the Board of Directors and/or officers of the organization through an elective procedure and that the organization functions in several different areas of concern to the members of the local Native American community. These areas are specified in the by-laws and/or policies adopted by the organization. They may include, but need not be limited to, economic, artistic, cultural, and recreational activities, and the delivery of human services such as day care, education, and training. (Legal authority: Sections 803(a) and (d) and 803C of the Native Americans Programs Act of 1974, as amended, 42 U.S.C. 2991b and 2991b-3)

Multi-year Project: Encompasses a single theme and requires more than 12 or 17 months to complete. A multi-year project affords the applicant an opportunity to develop and address more complex and in-depth strategies that cannot be completed in one year. A multi-year project is a series of related objectives with activities presented in chronological order over a two or three year period. Prior to funding the second or third year, of a multi-year grant, ANA will require verification and support documentation from the Grantee that objectives and outcomes proposed in the preceding year were accomplished. Applicants proposing multi-year projects must complete and submit an Objective Work Plan (OWP) and budget with narrative for each project year, and fully describe objectives to be accomplished, outcomes to be achieved, and the results and benefits to determine the successful outcomes of each budget period. ANA will review the quarterly and annual reports of grantees to determine if the grantee is meeting its goals, objectives and activities identified in the OWP. (Legal authority: Sections 803(a) and (d) and 803C of the Native Americans Programs Act of 1974, as amended, 42 U.S.C. 2991b and 2991b-3)

Objective(s): Specific outcomes or results to be achieved within the proposed project period that are specified in the Objective Work Plan. Completion of objectives must result in specific, measurable, outcomes that would benefit the community and directly contribute to the achievement of the stated community goals. Applicants should relate their proposed project objectives to outcomes that support the community's long-range goals. (Legal authority: Sections 803(a) and (d) and 803C of the Native Americans Programs Act of 1974, as amended, 42 U.S.C. 2991b and 2991b-3)

Partnerships: Agreements between two or more parties that will support the development and implementation of the proposed project. Partnerships include other community-based organizations or associations, Tribes, federal and state agencies and private or non-profit organizations. (Legal authority: Sections 803(a) and (d) and 803C of the Native Americans Programs Act of 1974, as amended, 42 U.S.C. 2991b and 2991b-3)

Performance Indicators: Measurement descriptions used to identify the outcomes or results of the project. Outcomes or results must be measurable to determine that the project has achieved its desired objective and can be independently verified through monitoring and evaluation. (Legal authority: Sections 803(a) and (d) and 803C of the Native Americans Programs Act of 1974, as amended, 42 U.S.C. 2991b and 2991b-3)

Real Property: Land, including land improvements, structures, and appurtenances thereto, excluding movable machinery and equipment. (Legal authority: Sections 803(a) and (d) and 803C of the Native Americans Programs Act of 1974, as amended, 42 U.S.C. 2991b and 2991b-3)

Renovation or Alteration: The work required to change the interior arrangements or other physical characteristics of an existing facility, or install equipment so that it may be more effectively used for the project. Alteration and renovation may include work referred to as improvements, conversion, rehabilitation, remodeling, or modernization, but is distinguished from construction. (Legal authority: Sections 803(a) and (d) and 803C of the Native Americans Programs Act of 1974, as amended, 42 U.S.C. 2991b and 2991b-3)

Resolution: Applicants are required to include a current signed Resolution (a formal decision voted on by the official governing body) in support of the project for the entire project period. The Resolution should indicate who is authorized to sign documents and negotiate on behalf of the Tribe or organization. The Resolution should indicate that the community was involved in the project planning process, and indicate the specific dollar amount of any non-federal matching funds (if applicable). (Legal authority: Sections 803(a) and (d) and 803C of the Native Americans Programs Act of 1974, as amended, 42 U.S.C. 2991b and 2991b-3)

Sustainable Project: A sustainable project is an on-going program or service that can be maintained without additional ANA funds. (Legal authority: Sections 803(a) and (d) and 803C of the Native Americans Programs Act of 1974, as amended, 42 U.S.C. 2991b and 2991b-3)

Self-Sufficiency: The ability to generate resources to meet a community's needs in a sustainable manner. A community's progress toward self-sufficiency is based on its efforts to plan, organize, and direct resources in a comprehensive manner that is consistent with its established long-range goals. For a community to be self sufficient, it must have local access to, control of, and coordination of services and programs that safeguard the health, well being, and culture of the people that reside and work in the community. (Legal authority: Sections 803(a) and (d) and 803C of the Native Americans Programs Act of 1974, as amended, 42 U.S.C. 2991b and 2991b-3)

Social Development: Investment in human and social capital for advancing the well being members of the Native American community served. Social development is the action taken to support the health, education, culture, and employment options that expand an individual's capabilities and opportunities, and that promote social inclusion and combat social ills. (Legal authority: Sections 803(a) and (d) and 803C of the Native Americans Programs Act of 1974, as amended, 42 U.S.C. 2991b and 2991b-3)

19. Competitive Panel Review Process

ANA will consolidate the peer panel review process. ANA is required by statute to provide a peer panel review for each eligible application. Panel reviewers are selected nationally for their education, experience, and working knowledge in ANA program areas. In FY 2003, ANA began the process of expanding and rotating the pool of panel reviewers. This process will ensure that applications for funding are reviewed, analyzed, and scored by qualified professionals in the respective program area. This organizational efficiency will ensure that each application receives appropriate consideration and the panel review teams have the appropriate and necessary credentials to analyze, evaluate, and score applications. For example, readers with education and work experience in Environmental Regulatory Enhancement will be selected to review environmental applications. Readers with education and work experience in Language Preservation and Maintenance will be selected to review language applications. (Legal authority: Sections 803(a) and (d) and 803C of the Native Americans Programs Act of 1974, as amended, 42 U.S.C. 2991b and 2991b-3)

19. (a) Initial Screening

Each application submitted under an ANA program announcement will undergo a pre-review screening to determine if (a) the application was received by the Program Announcement closing date; (b) the application was submitted in accordance with Application Submission Requirements; (c) the applicant is eligible for funding; (d) the applicant has submitted the proper support documentation such as proof of non-profit status, resolutions, and required government forms; and (e) an authorized representative has signed the application. An application that does not meet one of the above elements will be excluded from the competitive review process. Ineligible applicants will be notified by mail within 30 business days from the closing date of this program announcement. ANA staff cannot respond to requests for information regarding funding decisions prior to the official applicant notification. After the Commissioner has made funding decisions, unsuccessful applicants will be notified in writing within 90 days. Applicants are not ranked based on general financial need. Applicants, who are initially excluded from competition because of ineligibility, may appeal the Agency's decision. Likewise, applicants may also appeal an ANA decision that an applicant's proposed activities are ineligible for funding consideration. The appeals process is stated in the final rule published in the Federal Register on August 19, 1996 (61 FR 42817 and 45 CFR part 1336, subpart C). ANA has a policy of not funding duplicative projects or allowing any one community to receive a disproportionate share of the funds available for award. When making decisions on awards of grants the Agency will consider whether the project is essentially identical or similar, in whole or significant part, to projects in the same community previously funded or being funded under the same competition. The Agency will also consider whether the grantee is already receiving funding for a SEDS project or for another project from ANA. The Agency will also take into account in making funding decisions whether a proposed project would require funding on indefinite or recurring basis. (Legal authority: Sections 803(a) and (d) and 803C of the Native Americans Programs Act of 1974, as amended, 42 U.S.C. 2991b and 2991b-3)

19. (b) Automation of the Panel Review Process

In FY 2004, ANA will automate its application receipt and panel review process to comply with the Paperwork Reduction Act of 1995 and to support the ACF Electronic Grant Application Submission Initiative. The automation of document management will provide program operation efficiency. For example, when an application is submitted to ANA it is logged into an automated system and given an identification number. After the Program Announcement closing date ANA randomly assigns each application to a peer review panel for evaluation and scoring. During the review process, panel reviewer comments are downloaded into data files. These comments are then matched and stored with the application data file. This process consolidates all applications and review information, protects the confidentiality of the panel reviewers, and allows applicants to obtain comments in a timely manner. (Legal authority: Sections 803(a) and (d), 803C and 806 of the Native Americans Programs Act of 1974, as amended, 42 U.S.C. 2991b, 2991b-3 and 2991d-1)

19. (c) Panel Reviews and Funding Decisions

ANA values the knowledge and expertise of individual reviewers. Applications for funding are randomly assigned to panel review teams. Each panel reviewer is responsible for reading the program announcement Federal Register and scoring each application in accordance with the published review criteria. Each application is reviewed and scored independently by a panel reviewer. After the panel review process, ANA conducts due diligence on each application in the funding range. The ANA Commissioner determines the final action on each grant application received under ANA program announcements. The Commissioner's funding decision is based on an analysis of the application by each peer review panel, the review and recommendations of ANA staff, Panel Review scores, comments of State and Federal agencies having contract and grant performance related information, and other interested parties. The Commissioner makes grant awards consistent with the purpose of the Native American Programs Act (NAPA), all relevant statutory and regulatory requirements, this program announcement, and the availability of appropriated funds. (Legal authority: Sections 803(a) and (d), 803C and 806 of the Native Americans Programs Act of 1974, as amended, 42 U.S.C. 2991b, 2991b-3 and 2991d-1)

19. (d) Award Notification Information

Successful applicants are notified through an official Financial Assistance Award (FAA) document. The FAA will state the amount of Federal funds awarded, the purpose of the grant, the terms and conditions of the grant award, the effective date of the award, the project period, the budget period, and the amount of the non-ACF matching share requirement. Unsuccessful applicants should expect notification within 90 days after the closing deadline date. (Legal authority: Sections 803(a) and (d) and 803C of the Native Americans Programs Act of 1974, as amended, 42 U.S.C. 2991b and 2991b-3)

20. Web Site Information

In FY 2004, ANA may make public on its web site information associated with successfully funded applications. Such information will include the name of the grant recipient, type of award such as SEDS, Language, Environmental amount, the duration of the project, and a synopsis of the project. Posting this information will provide prospective applicants with examples of successfully funded projects, inform the public how and where ANA is expending its funds, and to share information with other HHS, ACF, federal and state agencies. The ANA website will also include profiles of successful ANA community projects, and it will provide links to other funding sources, information on special HHS, ACF and ANA initiatives, and provide an opportunity for ANA applicants to track the review and approval process of submitted applications for funding. (Legal authority: Sections 803(a) and (d) and 803C of the Native Americans Programs Act of 1974, as amended, 42 U.S.C. 2991b and 2991b-3)

21. New OMB Format Requirements

The Office of Management and Budget has changed the format for program announcements published in the Federal Register. ANA has modified its' normal program announcement format to comply with these changes.

FY 04 SEDS Program Announcement

Department of Health and Human Services

Administration for Children and Families

Program Office Name: Administration for Native Americans (ANA).

Funding Opportunity Title: Social and Economic Development Strategies for Native Americans. This program is authorized by U.S. Code Citation 42 U.S.C. 2991 et seq. 1974, the Native Americans Programs Act.

Announcement Type: Initial.

Funding Opportunity Number: HHS-ACF-04-ANA-001.

CFDA Number: 93.612.

Dates: March 26, 2003, 4:30 p.m.

Due Dates for Applications: March 26, 2003.

Federal Agency Contact: Lois Hodge.

E-mail: lhodge@acf.hhs.gov.

Telephone number: (202) 690-7776 or 1-877-922-9262.

Funding Opportunity Description: The Administration for Native Americans (ANA), within the Administration for Children and Families, announces the availability of fiscal year (FY) 2004 funds for new community-based projects under ANA's Social and Economic Development Strategies (SEDS) program. ANA's FY 2004 SEDS goals and areas of interest are focused on strengthening children, families, and communities through community-based organizations, Tribes, and Village governments.

The Program Areas of Interest are projects that ANA considers supportive to Native American communities. Although eligibility for funding is not restricted to projects of the type listed under this program announcement, these Areas of Interest are ones which ANA sees as particularly beneficial to the development of healthy Native American communities. (Legal authority: Sections 803(a) of the Native Americans Programs Act of 1974, as amended, 42 U.S.C. 2991b)

Financial assistance under the SEDS program is provided utilizing a competitive process in accordance with the Native American Programs Act of 1974, as amended. The purpose of this Act is to promote the goal of economic and social self-sufficiency for American Indians, Native Hawaiians, Alaskan Natives, and other Native American Pacific Islanders, including American Samoa natives.

Funding Instrument Type: Grant.

Category of Funding Activity: ISS Income Security and Social Services.

Explanation of Other: N/A.

Anticipated Total Program Funding: $20,000,000.

Anticipated Number of Awards: 140.

Ceiling on amount of individual SEDS awards: $500,000.

Floor on amount of individual awards: $25,000.

Project Periods for Awards: 12 months, 17 months, 24 months, or 36 months.

Electronic Link to Full Announcement: http://www.acf.hhs.gov/programs/ana.

Eligible Applicants:

07 Native American tribal governments (Federally recognized).

11 Native American tribal organizations (other than federally recognized tribal governments).

12 Nonprofits having 501 (c) (3) statuses with the IRS, other than institutions of higher education.

13 Non profits that do not have a 501 (c) (3) status with the IRS, other than institutions of higher education.

25 Others.

The above statement of the categories of eligible organizations is a summary only, for a complete statement of the categories of eligible organizations under the SEDS program, as established under 45 CFR 1336.33(a)(1) and (2), see the listing in the section on Additional Information on Eligibility, in the following section.

Additional Information on Eligibility:

DUNS Numbers: On June 27, 2003, the Office of Management and Budget published in the Federal Register a new Federal policy applicable to all Federal grant applicants after giving notice in the Federal Register on June 27, 2002 and opportunity for public comment. The policy requires all Federal grant applicants to provide a Dun and Bradstreet Data Universal Numbering System (DUNS) number when applying for Federal grants or cooperative agreements on or after October 1, 2003. The DUNS number will be required whether an applicant is submitting a paper application or using the government-wide electronic portal (http://www.Grants.Gov). A DUNS number will be required for every application for a new award or renewal/continuation of an award, including applications or plans under mandatory grant programs, submitted on or after October 1, 2003. A DUNS number may be acquired at no cost by calling the dedicated toll-free DUNS number request line on 1-866-705-5711 or you may request a number on-line at http://www.dnb.com.

In support of the Presidential Executive Orders on Asian American and Pacific Islanders, Community-based Alternatives for Individuals with Disabilities, and Faith-based and Community Organizations, ANA encourages greater participation from Hawaiian and Pacific Islander communities, encourages Native communities to address the needs of people with disabilities, and invites eligible faith-based and community organizations to apply.

This program announcement emphasizes community-based partnerships and projects. This emphasis is expected to increase the number of grants to local community organizations and expand the number of partnerships among locally based non-profit organizations. ANA will accept applications for funding and award grants to multiple organizations located in the same geographic area, provided the activities are not duplicative of previously funded ANA projects in the same geographic area or to the same grantee. Previously, under each competitive program area, ANA accepted one application that served or impacted a reservation, Tribe or Native American community. The reason for this change is to expand and support large Native American rural and urban communities that provide a variety of services in the same geographic area. Although Tribes are limited to three simultaneous ANA grants (SEDS, Language and Environmental) at any one time, this clarification allows other community based organizations to apply for ANA funding to support on-going community-based efforts, provided the activities do not duplicate currently funded projects serving the same geographic area.

Eligible applicants for funding under this program announcement include:

1. Federally recognized Indian Tribes.

2. Consortia of Indian Tribes.

3. Incorporated non-Federally recognized Tribes.

4. Incorporated non-profit multi-purpose community-based Indian organizations.

5. Urban Indian Centers.

6. National or regional incorporated non-profit Native American organizations with Native American community-specific objectives.

7. Alaska Native villages, as defined in the Alaska Native Claims Settlement Act (ANSCA) and/or non-profit village consortia.

8. Incorporated nonprofit Alaska Native multi-purpose community-based organizations.

9. Non-profit Alaska Native Regional Corporations/Associations in Alaska with village specific projects.

10. Incorporated non-profit Alaska Native multi-purpose community based organizations.

11. Public and nonprofit private agencies serving Native Hawaiians

12. Public and non-profit private agencies serving native peoples from Guam, American Samoa, or the Commonwealth of the Northern Mariana Islands (the populations served may be located on these islands or in the continental United States).

13. Tribally-controlled Community Colleges, Tribally-controlled Post-Secondary Vocational Institutions, and colleges and universities located in Hawaii, Guam, American Samoa or the Commonwealth of the Northern Mariana Islands which serve Native peoples.

14. Non-profit Alaska Native community entities or Tribal governing bodies (Indian Reorganization Act or Traditional Councils) as recognized by the Bureau of Indian Affairs. (Legal authority: Sections 803(a) of the Native Americans Programs Act of 1974, as amended, 42 U.S.C. 2991b; 45 CFR 1336.33(a)(1) and (2)).

Organizations in Palau are not longer eligible for assistance from ANA. (Legal authority: 48 U.S.C 1931)

Cost Sharing or Matching: Yes.

Explanation of Application Due Date:

Deadline: The closing time and date for receipt of applications is 4:30 p.m. (Eastern Time Zone) on March 26, 2004. Mailed or hand carried applications received after 4:30 p.m. on the closing date will not be considered. (Legal authority: Sections 803(a) of the Native Americans Programs Act of 1974, as amended, 42 U.S.C. 2991b)

Mailed applications shall be considered as meeting an announced deadline if they are received on or before the deadline time and date at the: U.S. Department of Health and Human Services, Administration for Children and Families, Office of Grants Management, Division of Discretionary Grants, Attention: Lois B. Hodge, ANA No. 93612-2004, 370 L'Enfant Promenade, SW., Mail Stop: Aerospace Center 8th Floor-West, Washington, DC 20447-0002.

Applicants are responsible for mailing applications well in advance, when using all mail services, to ensure that the applications are received on or before the deadline time and date. ACF/ANA will not acknowledge receipt of applications.

Hand delivered applications by applicants, applicant couriers, other representatives of the applicant or by overnight/express mail couriers shall be considered as meeting an announced deadline if they are received on or before the deadline date, between the hours of 8 a.m. and 4:30 p.m., EST, between Monday and Friday (excluding Federal holidays). Application may be delivered to: U.S. Department of Health and Human Services, Administration for Children and Families, Office of Grants Management, Division of Discretionary Grants, ACF Mail Room, Second Floor Loading Dock, Aerospace Center 901 D Street, SW., Washington DC 20024, Attention: Lois B. Hodge, ANA No. 93612-2004.

Applicants are cautioned that express/overnight mail services do not always deliver as agreed. (Legal authority: Sections 803(a) of the Native Americans Programs Act of 1974, as amended, 42 U.S.C. 2991b)

Late Applications: Applications that do not meet the deadline criteria above are considered late applications. ACF shall notify each late applicant that its application will not be considered in the current competition. (Legal authority: Sections 803(a) of the Native Americans Programs Act of 1974, as amended, 42 U.S.C. 2991b)

Extension of Deadline: ACF may extend application deadlines when circumstances such as acts of God (floods, hurricanes, etc.) occur, or when there are widespread disruptions of mails service. Determinations to extend or waive deadline requirements rest with the Chief Grants Management Officer (Legal authority: Sections 803(a) of the Native Americans Programs Act of 1974, as amended, 42 U.S.C. 2991b)

Funding Opportunity Description: The Administration for Native Americans (ANA), within the Administration for Children and Families, announces the availability of fiscal year (FY) 2004 funds for new community-based activities under ANA's Social and Economic Development Strategies (SEDS) program. ANA's FY 2004 SEDS goals and areas of interest are focused on strengthening children, families, and communities through community-based organizations, Tribes, and Village governments.

This program announcement emphasizes community-based partnerships and projects. This emphasis will increase the number of grants to local community organizations and expand the number of partnerships among locally based non-profit organizations. ANA will accept applications for funding and award grants to multiple organizations located in the same geographic area, provided the activities are not duplicative of previously funded ANA projects in the same geographic area or to the same grantee. Previously, under each competitive program area, ANA accepted one application that served or impacted a reservation, Tribe or Native American community. The reason for this change is to expand and support large Native American rural and urban communities that provide a variety of services in the same geographic area. Although Tribes are limited to three simultaneous ANA grants (one each under SEDS, Language and Environmental programs) at any one time, this clarification allows other community based organizations to apply for ANA funding to support on-going community-based efforts, provided the activities do not duplicate currently funded projects serving the same geographic area. (Legal authority: Sections 803(a) and (d) and 803C of the Native Americans Programs Act of 1974, as amended, 42 U.S.C. 2991b and 2991b-3)

In support of the Presidential Executive Orders on Asian American and Pacific Islanders, Community-based Alternatives for Individuals with Disabilities, and Faith-based and Community Organizations, ANA encourages greater participation from Hawaiian and Pacific Islander communities, encourages Native communities to address the needs of people with disabilities, and invites eligible faith-based and community organizations to apply.

Financial assistance under the SEDS and Alaska SEDS program is provided utilizing a competitive process in accordance with the Native American Programs Act of 1974, as amended. The purpose of this Act is to promote the goal of economic and social self-sufficiency for American Indians, Native Hawaiians, Alaskan Natives, and other Native American Pacific Islanders, including American Samoan Natives.

The ANA SEDS Program supports the fundamental principle that economic development, social development and governance are interrelated, and that with effective economic, social and governance policies and development strategies, Native American people and communities can achieve self-sufficiency. In order to move toward self-sufficiency, development in one area should be balanced with the development in the others. Accordingly, community-based economic, social and governance development programs and activities proposed in response to this announcement should take into consideration the elements necessary to build healthy self-sufficient communities.

ANA's FY 2004 Program Announcements will now be goal-category specific. ANA will release separate program announcements for funding opportunities under SEDS, for Language Preservation and Maintenance, Environmental Regulatory Enhancement, and for special initiatives. (Legal authority: Sections 803(a) and (d) and 803C of the Native Americans Programs Act of 1974, as amended, 42 U.S.C. 2991b and 2991b-3)

ANA's policy is based on three interrelated goals: (1) Economic Development: To foster the development of stable diversified local economies and economic activities that provide jobs, options and opportunities that promote economic well-being in Native American communities. (2) Social Development: To support local access to, control of, and coordination with, programs and services that safeguard the health, well-being, and culture of native peoples, and; (3) Governance: To assist Tribes and Alaska Native village governments to build capacity that results in local control and decision-making over their resources. (Legal authority: Sections 803(a) of the Native Americans Programs Act of 1974, as amended, 42 U.S.C. 2991b; 45 CFR 1336.33(b) (5))

The Administration for Children and Families through the Administration for Native Americans supports and fosters strong families and healthy communities under four initiatives. ANA encourages applications from eligible community and faith based organizations that: (1) Provide services directly to Native American people; (2) organizations that support rural communities; (3) organizations that provide prevention and intervention programs for youth and families; and (4) organizations that promote healthy relationships to strengthen families.

ANA's FY 2004 program goals and areas of interest are focused on expanding community-based, culturally appropriate economic development, social development and governance activities. ANA is interested in projects designed to grow Native American economies, strengthen Native families, and decrease the high rate of social challenges caused by the lack of community-based business, social, and economic infrastructure. In response to this announcement, ANA encourages Native American tribes and organizational leaders to propose, coordinate and implement community-based projects to meet the needs of its community members and develop options and opportunities for future generations.

The Program Areas of Interest are projects that ANA considers supportive to Native American communities. Although eligibility for funding is not restricted to projects of the type listed under this program announcement, these Areas of Interest are ones which ANA sees as particularly beneficial to the development of healthy Native American communities. (Legal authority: Sections 803(a) of the Native Americans Programs Act of 1974, as amended, 42 U.S.C. 2991b)

ANA Administrative Policies:

Applicants must comply with the following Administrative Policies:

• An applicant must provide a 20% non-federal match of the approved project costs. Applications originating from American Samoa, Guam, or the Commonwealth of the Northern Mariana Islands are covered under section 501(d) of Public Law 95-134, as amended (48 U.S.C. 1469a), under which HHS waives any requirement for matching funds under $200,000 (including in-kind contributions). (Legal authority: Sections 803(a) and (d) and 803C of the Native Americans Programs Act of 1974, as amended, 42 U.S.C. 2991b and 2991b-3; 45 CFR 1336.50(b))

• An application from a Tribe, Alaska Native Village or Native American organization must be from the governing body. (Legal authority: Sections 803(a) and (d) and 803C of the Native Americans Programs Act of 1974, as amended, 42 U.S.C. 2991b and 2991b-3)

• A non-profit organization submitting an application must submit proof of its non-profit status at the time of submission. The non-profit organization shall submit one of the following verifiable documents: (i) A copy of the applicant's listing in the Internal Revenue Service's (IRS) most recent list of tax exempt organizations described in Section 501(c)(3) of the IRS code or (ii) a copy of the currently valid IRS tax exemption certificate, or (iii) a copy of the articles of incorporation bearing the seal of the State or federally-recognized Tribe in which the corporation or association is domiciled. Organizations incorporating in American Samoa are cautioned that the Samoan government relies exclusively upon IRS determination of non-profit status; therefore, articles of incorporation approved by the Samoan government do not establish non-profit status for the purpose of ANA eligibility. (Legal authority: Sections 803(a) and (d) and 803C of the Native Americans Programs Act of 1974, as amended, 42 U.S.C. 2991b and 2991b-3)

• If the applicant, other than a Tribe or an Alaska Native Village government, is proposing a project benefiting Native Americans or Native Alaskans, or both, it must provide assurance that it's duly elected or appointed board of directors is representative of the community to be served. To establish compliance, an applicant should provide supporting documentation and assurance that it's duly elected or appointed board of directors is majority Native American. (Legal authority: Sections 803(a) and (d) and 803C of the Native Americans Programs Act of 1974, as amended, 42 U.S.C. 2991b and 2991b-3; 45 CFR 1336.33(a))

• Applicants must describe how the proposed project objectives and activities relate to a locally determined strategy. (Legal authority: Sections 803(a) and (d) and 803C of the Native Americans Programs Act of 1974, as amended, 42 U.S.C. 2991b and 2991b-3)

• Proposed projects must consider the maximum use of all available community-based resources. (Legal authority: Sections 803(a) and (d) and 803C of the Native Americans Programs Act of 1974, as amended, 42 U.S.C. 2991b and 2991b-3)

• Proposed projects must present a strategy to overcome the challenges that hinder movement toward self-sufficiency in the community. (Legal authority: Sections 803(a) and (d) and 803C of the Native Americans Programs Act of 1974, as amended, 42 U.S.C. 2991b and 2991b-3)

• Applicants proposing an Economic Development project should address the project's viability. A business plan, if applicable, must be included to describe the project's feasibility, cash flow, and approach for the implementation and marketing of the business. (Legal authority: Sections 803(a) and (d) and 803C of the Native Americans Programs Act of 1974, as amended, 42 U.S.C. 2991b and 2991b-3)

• ANA will not accept applications from tribal components, which are tribally authorized divisions of a larger tribe, which are not approved by the governing body of the tribe. (Legal authority: Sections 803(a) and (d) and 803C of the Native Americans Programs Act of 1974, as amended, 42 U.S.C. 2991b and 2991b-3; 45 CFR 1336.33(a))

Definitions: The following definitions will be used in ANA program announcements.

In the FY 2004 Program Announcement, ANA clarifies many areas that have previously prompted numerous questions and application mistakes from applicants. The ANA program announcement will now include definitions for the following terms:

Authorized Representative: The person or person(s) authorized by Tribal or Organizational resolution to execute documents and other actions required by outside agencies. (Legal authority: Sections 803(a) and (d) and 803C of the Native Americans Programs Act of 1974, as amended, 42 U.S.C. 2991b and 2991b-3)

Budget Period: The interval of time into which the project period is divided for budgetary or funding purposes, and for which a grant is made. A budget period usually lasts one year in a multi-year project period. (Legal authority: Sections 803(a) and (d) and 803C of the Native Americans Programs Act of 1974, as amended, 42 U.S.C. 2991b and 2991b-3)

Community: A group of people residing in the same geographic area that can apply their own cultural and socio-economic values in implementing ANA's program objectives and goals. In discussing the applicant's community, the following information should be provided: (1) A description of the population segment within the community to be served or impacted; (2) the size of the community; (3) geographic description or location, including the boundaries of the community; (4) demographic data on the target population; and (5) the relationship of the community to any larger group or tribe. (Legal authority: Sections 803(a) and (d) and 803C of the Native Americans Programs Act of 1974, as amended, 42 U.S.C. 2991b and 2991b-3)

Community Involvement: How the community participated in the development of the proposed project, how the community will be involved during the project implementation and after the project is completed. Evidence of community involvement can include, but is not limited to, certified petitions, public meeting minutes, surveys, needs assessments, newsletters, special meetings, public Council meetings, public committee meetings, public hearings, and annual meetings with representatives from the community. The applicant should document the community's support of the proposed project. Applications from National and Regional Indian and Native organizations should clearly demonstrate a need for the project, explain how the project originated, identify the beneficiaries, and describe and relate the actual project benefits to the community and organization. National Indian and Native organizations should also identify their membership and specifically discuss how the organization operates and impacts Native American people and communities. (Legal authority: Sections 803(a) and (d) and 803C of the Native Americans Programs Act of 1974, as amended, 42 U.S.C. 2991b and 2991b-3)

Completed Project: A completed project means that the program funded by ANA is finished and the results and outcomes are achieved by the end of the project period. (Legal authority: Sections 803(a) and (d) and 803C of the Native Americans Programs Act of 1974, as amended, 42 U.S.C. 2991b and 2991b-3)

Consortia—Tribal/Village: A group of Tribes or villages that join together either for long-term purposes or for the purpose of an ANA project. Applicant must identify Consortia membership. The Consortia applicant must be the recipient of the funds. A Consortia applicant must be an “eligible entity” as defined by this Program Announcement and the ANA regulations. Consortia applicants should include documentation (a resolution adopted pursuant to the organization's established procedures and signed by an authorized representative) from all consortia members supporting the ANA application. An application from a consortium should have goals and objectives that will create positive impacts and outcomes in the communities of its members. ANA will not fund activities by a consortium of tribes which duplicates activities for which member Tribes also receives funding from ANA. The consortium application should identify the role and responsibility of each participating Consortia member and a copy of the consortia legal agreement or Memoranda of Agreement to support the proposed project. (Legal authority: Sections 803(a) and (d) and 803C of the Native Americans Programs Act of 1974, as amended, 42 U.S.C. 2991b and 2991b-3)

Construction: The initial building of a facility. (Legal authority: Sections 803(a) and (d) and 803C of the Native Americans Programs Act of 1974, as amended, 42 U.S.C. 2991b and 2991b-3)

Core Administration: Salaries and other expenses for those functions that support the applicant's organization as a whole or for purposes that are unrelated to the actual management or implementation of the ANA project. However, salaries and activities that are clearly related to the ANA project are eligible for grant funding. (Legal authority: Sections 803(a) and (d) and 803C of the Native Americans Programs Act of 1974, as amended, 42 U.S.C. 2991b and 2991b-3; 45 CFR 1336.33(b)(4).)

Economic Development: Involves the promotion of the physical, commercial, technological, industrial, and/or agricultural capacities necessary for a sustainable local community. Economic development includes activities and actions that develop sustainable, stable, and diversified private sector local economies. For example, initiatives that support employment options, business opportunities, development and formation of a community's economic infrastructure, laws and policies that result in the creation of businesses and employment options and opportunities that provide for the foundation of healthy communities and strong families. (Legal authority: Sections 803 (a) and (d) and 803C of the Native Americans Programs Act of 1974, as amended, 42 U.S.C. 2991b and 2991b-3)

Equipment: Tangible, non-expendable personal property, including exempt property, charged directly to the award having a useful life of more than one year and an acquisition cost of $5,000 or more per unit. However, consistent with recipient policy, lower limits may be established. (Legal authority: Sections 803 (a) and (d) and 803C of the Native Americans Programs Act of 1974, as amended, 42 U.S.C. 2991b and 2991b-3; 45 CFR 1336.50(a); 45 CFR 74.2 and 92.3)

Governance: Involves assistance to tribal and Alaska Native village government leaders to increase their ability to execute local control and decision-making over their resources. (Legal authority: Sections 803 (a) and (d) and 803C of the Native Americans Programs Act of 1974, as amended, 42 U.S.C. 2991b and 2991b-3)

Implementation Plan: The guidebook the applicant will use in meeting the results and benefits expected for the project. The Implementation Plan provides detailed descriptions of how, when, where, by whom and why activities are proposed for the project and is complemented and condensed by the Objective Work Plan. (Legal authority: Sections 803 (a) and (d) and 803C of the Native Americans Programs Act of 1974, as amended, 42 U.S.C. 2991b and 2991b-3)

In-kind Contributions: In-kind contributions are property or services which benefit a federally assisted project or program and which are contributed by the grantee, non-Federal third parties without charge to the grantee, or a cost-type contractor under the grant agreement. Any proposed In-kind match must meet the applicable requirements found in 45 CFR parts 74 and 92. (Legal authority: Sections 803 (a) and (d) and 803C of the Native Americans Programs Act of 1974, as amended, 42 U.S.C. 2991b and 2991b-3)

Letter of Commitment: A third party statement to document the intent to provide specific in-kind contributions or cash to support the applicant. The Letter of Commitment must state the dollar amount (if applicable), the length of time the commitment will be honored, and the conditions under which the organization will support the proposed ANA project. If a dollar amount is included, the amount must be based on market and historical rates charged and paid. The resources to be committed may be human, natural, physical, or financial, and may include other Federal and non-Federal resources. For example, a notice of award from another Federal agency committing $200,000 in construction funding to complement a proposed ANA funded pre-construction activity is evidence of a commitment. Statements about resources which have been committed to support a proposed project made in the application without supporting documentation will be disregarded. (Legal authority: Sections 803 (a) and (d) and 803C of the Native Americans Programs Act of 1974, as amended, 42 U.S.C. 2991b and 2991b-3)

Leveraged Resources: The total dollar value of all non-ANA resources that are committed to a proposed ANA project and are supported by documentation that exceed the 20% non-federal match required for an ANA grant. Such resources may include any natural, financial, and physical resources available within the tribe, organization, or community to assist in the successful completion of the project. An example would be a written letter of commitment from an organization that agrees to provide a supportive action, product, and service, human or financial contribution that will add to the potential success of the project. (Legal authority: Sections 803 (a) and (d) and 803C of the Native Americans Programs Act of 1974, as amended, 42 U.S.C. 2991b and 2991b-3)

Multi-purpose Organization: A community-based corporation whose charter specifies that the community designates the Board of Directors and/or officers of the organization through an elective procedure and that the organization functions in several different areas of concern to the members of the local Native American community. These areas are specified in the by-laws and/or policies adopted by the organization. They may include, but need not be limited to, economic, artistic, cultural, and recreational activities, and the delivery of human services such as day care, education, and training. (Legal authority: Sections 803 (a) and (d) and 803C of the Native Americans Programs Act of 1974, as amended, 42 U.S.C. 2991b and 2991b-3)

Multi-year Project: Encompasses a single theme and requires more than 12 or 17 months to complete. A multi-year project affords the applicant an opportunity to develop and address more complex and in-depth strategies that cannot be completed in one year. A multi-year project is a series of related objectives with activities presented in chronological order over a two or three year period. Prior to funding the second or third year, of a multi-year grant, ANA will require verification and support documentation from the Grantee that objectives and outcomes proposed in the preceding year were accomplished. Applicants proposing multi-year projects must complete and submit an Objective Work Plan (OWP) and budget with narrative for each project year, and fully describe objectives to be accomplished, outcomes to be achieved, and the results and benefits to determine the successful outcomes of each budget period. ANA will review the quarterly and annual reports of grantees to determine if the grantee is meeting its goals, objectives and activities identified in the OWP. (Legal authority: Sections 803 (a) and (d) and 803C of the Native Americans Programs Act of 1974, as amended, 42 U.S.C. 2991b and 2991b-3)

Objective(s): Specific outcomes or results to be achieved within the proposed project period that are specified in the Objective Work Plan. Completion of objectives must result in specific, measurable, outcomes that would benefit the community and directly contribute to the achievement of the stated community goals. Applicants should relate their proposed project objectives to outcomes that support the community's long-range goals. (Legal authority: Sections 803 (a) and (d) and 803C of the Native Americans Programs Act of 1974, as amended, 42 U.S.C. 2991b and 2991b-3)

Partnerships: Agreements between two or more parties that will support the development and implementation of the proposed project. Partnerships include other community-based organizations or associations, Tribes, federal and state agencies and private or non-profit organizations. (Legal authority: Sections 803 (a) and (d) and 803C of the Native Americans Programs Act of 1974, as amended, 42 U.S.C. 2991b and 2991b-3)

Performance Indicators: Measurement descriptions used to identify the outcomes or results of the project. Outcomes or results must be measurable to determine that the project has achieved its desired objective and can be independently verified through monitoring and evaluation. (Legal authority: Sections 803(a) and (d) and 803C of the Native Americans Programs Act of 1974, as amended, 42 U.S.C. 2991b and 2991b-3)

Real Property: Land, including land improvements, structures, and appurtenances thereto, excluding movable machinery and equipment. (Legal authority: Sections 803(a) and (d) and 803C of the Native Americans Programs Act of 1974, as amended, 42 U.S.C. 2991b and 2991b-3)

Renovation or Alteration: The work required to change the interior arrangements or other physical characteristics of an existing facility, or install equipment so that it may be more effectively used for the project. Alteration and renovation may include work referred to as improvements, conversion, rehabilitation, remodeling, or modernization, but is distinguished from construction. (Legal authority: Sections 803(a) and (d) and 803C of the Native Americans Programs Act of 1974, as amended, 42 U.S.C. 2991b and 2991b-3)

Resolution: Applicants are required to include a current signed Resolution (a formal decision voted on by the official governing body) in support of the project for the entire project period. The Resolution should indicate who is authorized to sign documents and negotiate on behalf of the Tribe or organization. The Resolution should indicate that the community was involved in the project planning process, and indicate the specific dollar amount of any non-federal matching funds (if applicable). (Legal authority: Sections 803(a) and (d) and 803C of the Native Americans Programs Act of 1974, as amended, 42 U.S.C. 2991b and 2991b-3)

Sustainable Project: A sustainable project is an on-going program or service that can be maintained without additional ANA funds. (Legal authority: Sections 803(a) and (d) and 803C of the Native Americans Programs Act of 1974, as amended, 42 U.S.C. 2991b and 2991b-3)

Self-Sufficiency: The ability to generate resources to meet a community's needs in a sustainable manner. A community's progress toward self-sufficiency is based on its efforts to plan, organize, and direct resources in a comprehensive manner that is consistent with its established long-range goals. For a community to be self sufficient, it must have local access to, control of, and coordination of services and programs that safeguard the health, well being, and culture of the people that reside and work in the community. (Legal authority: Sections 803(a) and (d) and 803C of the Native Americans Programs Act of 1974, as amended, 42 U.S.C. 2991b and 2991b-3)

Social Development: Investment in human and social capital for advancing the well being members of the Native American community served. Social development is the action taken to support the health, education, culture, and employment options that expand an individual's capabilities and opportunities, and that promote social inclusion and combat social ills. (Legal authority: Sections 803(a) and (d) and 803C of the Native Americans Programs Act of 1974, as amended, 42 U.S.C. 2991b and 2991b-3)

I. Program Area 1

Social and Economic Development Strategies for Native Americans (Non-Alaska): To promote the goal of social and economic self-sufficiency for Native Americans.

Economic Development: Involves the promotion of the physical, commercial, technological, industrial, and / or agricultural components necessary for a sustainable local community. Applicants are encouraged to develop sustainable projects to support sustainable, stable, and diversified private sector local economies.

Program areas of interest include:

• Projects to strengthen an organization's capacity to deliver business technical assistance, workshops, financial literacy programs, and that create, expand, and retain public and private sector community-based businesses.

• Projects to increase cooperative enterprise development activities, and technical capacity of youth to establish and operate cooperative businesses with the goal of teaching financial, management and long-term employment skills.

• Projects to develop and coordinate emergency response services within the community and with State and local governments to protect against Acts of Nature and other catastrophic events such as fire, floods, and environmental catastrophes.

• Projects to implement initiatives for Tribes to evaluate the economic potential of energy resources in their community, including renewable energy sources such as: Bio-energy, Geothermal, Hydrogen, Hydropower, Ocean, Solar, Wind, or other methods appropriate to the tribe and geographical location.

• Projects to develop community transportation activities that support the needs of the elderly, the disabled, and the local workforce.

• Projects to develop organizational and management capacity building activities that enhance community based program delivery systems and services.

• Projects to develop and implement community-based activities that increase International Tourism and trade activities for Native American products, services, and communities. Business sectors of interest include: the export of Native American packaged foods; arts and crafts; literature and music; manufactured products; agricultural and organic products; value-added product assembly or processing that includes agriculture and aquaculture.

• Projects to develop and enhance subsistence activities that retain, or re-establish Native traditional foods and or by-products of natural resources for local and commercial markets. Develop and/or strengthen the local economy through enhanced commercial trade in areas such as agriculture, aquaculture, lumber, and traditional arts and crafts. (Legal authority: Sections 803(a) of the Native Americans Programs Act of 1974, as amended, 42 U.S.C. 2991b)

Social Development: The investment in human and social capital for advancing people's well being. Applicants are encouraged to develop and implement culturally appropriate programs to enhance tribal, community, and village activities. Social development programs under this area support families, elders, parents, positive youth development, healthy marriage, individuals with disabilities, and personal commitment.

Program areas of interest:

• Healthy Relationships and Strengthening Families Initiative: The goal is to promote healthy family environments and strengthen co-parenting teamwork, problem-solving, and conflict resolution. To respond to this initiative, applicants should consider comprehensive projects that are culturally and socially appropriate to teach couples relationship-building skills, such as negotiation-based interpersonal communications, collaborative problem solving, and preservation of love, commitment, and friendship. Applicants are encouraged to be creative in their efforts to integrate elders into these projects to support traditional values and methods. Initiatives could address problematic periods in the family life cycle such as: pregnancy, postpartum care, first-time parenthood, parenting adolescents, and goal setting for independent young adults.

• Project to strengthen the long-term commitment of married couples. Projects should consider the enhancement of relationship skills through premarital counseling, mentoring activities, or role model activities.

• Projects to support young families in order to reduce the challenges and stress of child rearing, and the risks associated with child/infant abuse and neglect, strengthening the bonds between parents and children, and particularly between fathers and children and the fathers' role in healthy families.

• In partnership with community and or faith-based organizations, develop and implement comprehensive culturally and socially appropriate projects to help youth practice personal responsibility; reach a balance in their lives by learning how to set and meet short and long-term goals; and to practice healthy lifestyles with the goal of decreasing gang activity, school drop out rates and juvenile delinquency.

• Projects to recruit, train, and certify new Native American foster parents or promote appropriate extended family placements or to assist abused, neglected, and abandoned Native American children, youth, and their families.

• Projects to develop, coordinate, and implement training for Native Americans with disabilities in order to join the workforce, obtain information and technical assistance to apply for disability benefits, gain access to workplace facilities, and receive reasonable accommodations necessary to perform job functions. (Legal authority: Sections 803(a) of the Native Americans Programs Act of 1974, as amended, 42 U.S.C. 2991b)

Governance: Involves assistance to Tribal and Alaska native Village government leaders to increase their ability to execute local control and decision-making over their resources. ANA encourages applications for the development of laws and policies that support community-based social, economic and governance activities. Governance projects under this area may be used for leadership and management training or to assist eligible applicants in the development of laws, regulations, codes, policies, and practices that support and promote community based activities.

Program areas of interest include:

• Projects to enact laws that support and enforce business and investment transactions, contracts, and property rights. For example, develop and implement Uniform Commercial Codes (business codes) and Tax Codes.

• Projects to enact laws, ordinances, and policies, to develop, expand, and/or enhance utility and communications infrastructures.

• Projects to enrich and strengthen the management and leadership skills of senior Tribal government personnel, and senior management personnel of tribally owned companies.

• Projects to establish and implement technology management information systems to assist with the effective and efficient administration of tribal government programs.

• Projects to develop or amend tribal constitutions, government procedures and functions, by-laws or codes, and council or executive branch duties in order to improve the regulatory, judicial and/or administrative infrastructure of tribal and village governments. (Legal authority: Sections 803(a) of the Native Americans Programs Act of 1974, as amended, 42 U.S.C. 2991b)*

II. Award Information

Funding Instrument Type: Grant.

Anticipated Total Program Area 1 Funding: $18,000,000.

Anticipated Number of Awards: 110—120.

Average Projected Award Amount: $25,000 to $500,000.

Length of Project Period: 12, 17, 24, or 36 months.

Ceiling on Amount of Individual Awards: $500,000.

An application that exceeds the upper value of the dollar range specified will be considered “non-responsive” and be returned to the applicant without further review.

Floor on Amount of Individual Awards: $25,000.

III. Eligibility Information

Eligible Applicants

• Federally recognized Indian Tribes.

• Consortia of Indian Tribes.

• Incorporated non-Federally recognized Tribes.

• Incorporated non-profit multi-purpose community-based Indian organizations.

• Urban Indian Centers.

• National or regional incorporated non-profit Native American organizations with Native American community-specific objectives.

• Alaska Native villages, as defined in the Alaska Native Claims Settlement Act (ANSCA) and/or non-profit village consortia.

• Non-profit Alaska Native Regional Corporations/Associations in Alaska with village specific projects.

• Incorporated non-profit Alaska Native multi-purpose community based organizations.

• Non-profit Native organizations with village specific projects

• Public and non-profit private agencies serving Native Hawaiians.

• Public and non-profit private agencies serving native peoples from Guam, American Samoa, or the Commonwealth of the Northern Mariana Islands (the populations served may be located on these islands or in the continental United States).

• Tribally-controlled Community Colleges, Tribally-controlled Post-Secondary Vocational Institutions, and colleges and universities located in Hawaii, Guam, American Samoa or the Commonwealth of the Northern Mariana Islands which serve Native Pacific Islanders.

• Non-profit Alaska Native community entities or Tribal governing bodies (Indian Reorganization Act or Traditional Councils) as recognized by the Bureau of Indian Affairs. Organizations in Palau are no longer eligible for assistance from ANA. (Legal authority: 48 U.S.C. 1931)

Additional Information on Eligibility

Cost Sharing or Matching Grantees must provide at least 20 percent of the total approved cost of the project. The total approved cost of the project is the sum of the ANA share and the non-federal share. The required match can be computed by dividing total Federal funds by 80 percent for total project costs then subtracting the Federal portion. The remainder is the required match. For example, a project requesting $100,000 in Federal funds (per budget period) must provide a match of at least $ 25,000 ($100,000/80% = $125, 000—$100,000 = $25,000). Grantees must be able to verify commitments of the non-Federal resources. Failure to provide the non-federal share match will result in the disallowance of Federal funding commitment.

A request for a waiver of the non-Federal share requirement may be submitted in accordance with 45 CFR 1336.50(b)(3) of the Native American Program regulations. (Legal authority: Sections 803(a) of the Native Americans Programs Act of 1974, as amended, 42 U.S.C. 2991b)

Applications originating from American Samoa, Guam, or the Commonwealth of the Northern Mariana Islands are covered under section 501(d) of Public Law 95-134, as amended (48 U.S.C. 1469a) under which HHS waives any requirement for matching funds under $200,000 (including in-kind contributions). For ANA grants under this announcement there is no match required for these insular areas.

Acceptable proof of non-profit status includes:

• A copy of the applicant organization’s listing in the Internal Revenue Service's (IRS) most recent list of tax-exempt organizations described in the IRS Code, or

• A copy of a currently valid IRS tax exemption certificate, or

• Provide a copy of the articles of incorporation bearing the seal of the State or federally-recognized Tribe in which the corporation or association is domiciled. Organizations incorporating in American Samoa are cautioned that the Samoan government relies exclusively upon IRS determinations of non-profit status; therefore, articles of incorporation approved by the Samoan government do not establish non-profit status for the purpose of ANA program eligibility.

Resolution: Applicants are required to include a current signed Resolution (a formal decision voted on by the official governing body) in support of the project for the entire project period. The Resolution must indicate who is authorized to sign documents and negotiate on behalf of the Tribe or organization. The Resolution should indicate that the community was involved in the project planning process, and indicate the specific dollar amount of any non-federal matching funds (if applicable).

IV. Application and Submission Information

To request an application package, please contact: The ANA regional Training and Technical Assistance (T/TA) providers at:

Native American Management Services, Inc., 6858 Old Dominion Drive, Suite 302, McLean, Virginia 22101, Toll Free: 888-221-9686, (703) 821-2226 x-234, Fax: (703) 821-3680, Kendra King-Bowes, Project Manager, E-mail: kking@namsinc.org, http://www.anaeastern.org.

Region I: AL, AR, CT, DC, DE, FL, GA, IA, IL, IN, KS, KY, LA, MA, MD, ME, MI, MN, MO, MS, NC, ND, NE, NH, NJ, NY, OH, OK, PA, RI, SC, SD, TN, TX, VA, VT, WI, W.VA.

ACKCO, Inc., 2214 N. Central, suite #250, Phoenix, Arizona 85004, Toll Free: 800-525-2859, (602) 253-9211, Fax (602) 253-9135, Theron Wauneka, Project Manager, E-mail: theron.wauneka@ackco.com, www.anawestern.com.

Region II: AZ, CA, CO, ID, MT, NM, NV, OR, UT, WA, WY.

Native American Management Services, Inc., 11723 Old Glenn Highway, suite 201, Eagle River, Alaska 99577, Toll Free 877-770-6230, (907) 694-5711, Fax (907) 694-5775, P.J. Bell, Project Manager, E-mail: pjbell@gci.net, http://www.anaalaska.org.

Region III: Alaska.

Council for Native Hawaiian Advancement, 33 South King Street, Suite 513, Honolulu, Hawaii 96813, Toll-Free 800-709-2642, (808) 521-5011, Fax: (808) 521-4111, Jade Danner, Project Manager, E-mail: jade@hawaiiancouncil.org, http://www.anapacific.org.

Region IV: American Samoa (AS), Guam, HI, Commonwealth of Northern Mariana Islands (CNMI).

Content and Form of Submission

Organization and Preparation of Application: Due to the intensity and pace of the application review and evaluation process, ANA strongly recommends applicants organize, label, and insert required information in accordance with Part One, Part Two and Part Three as presented in the charts below. The application should begin with the information requested in Part One of the chart in the prescribed order. Utilizing this format will insure all information submitted to support an applicant's request for funding is thoroughly reviewed. Submitting information in this format will assist the panel reviewer in locating and evaluating the information. Deviation from this suggested format may reduce the applicant's ability to receive maximum points, which are directly related to ANA's funding review decisions.

ANA Application Format: ANA will now require all applications to be labeled with a Section Heading in compliance with the format provided in the program announcement. This format applies to all applicants submitting applications for funding. All pages submitted (including Government Forms, certifications and assurances) should be numbered consecutively. The paper size shall be 8½ x 11 inches, line spacing shall be a space and a half (1.5 line spacing), printed only on one side, and have a half-inch margin on all sides of the paper. The font size should be no smaller than 12-point and the font type shall be Times New Roman. These requirements do not apply to the project Abstract Form, Letters of Commitment, the Table of Contents, and the Objective Work Plan.

Submission Date and Time

Deadline: The closing time and date for receipt of applications is 4:30 p.m. (Eastern Time Zone) on March 26, 2004. Mailed or hand-delivered applications received after 4:30 p.m. on the closing date will be classified as late.

Mailed applications shall be considered as meeting an announced deadline if they are received on or before the deadline time and date at the: U.S. Department of Health and Human Services, Administration for Children and Families, Office of Grants Management, Division of Discretionary Grants, Attention: Lois B. Hodge, ANA No. 93612-2004, 370 L'Enfant Promenade, SW., Mail Stop: Aerospace Center 8th Floor-West, Washington, DC 20447-0002.

Hand-delivered applications must be received at the address below by 4:30 p.m. (Eastern Standard Time) on or before the closing date. Applications that are hand delivered will be accepted between the hours of 8 a.m. to 4:30 p.m., Monday through Friday. Applications may be delivered to: U.S. Department of Health and Human Services, Administration for Children and Families, Office of Grants Management, Division of Discretionary Grants, ACF Mail Room, Second Floor Loading Dock, Aerospace Center, 901 D Street, SW., Washington, DC 20024, Attention: Lois B. Hodge, ANA No. 93612-2004.

Applicants are responsible for mailing applications well in advance, when using all mail services, to ensure that the applications are received on or before the deadline time and date. ACF/ANA will not acknowledge receipt of applications.

Late Applications: Applications that do not meet the above criteria will be considered unresponsive to the Program Announcement and late. ACF will notify each late applicant that its application will not be considered for review in the current competition. (Legal authority: Sections 803(a) of the Native Americans Programs Act of 1974, as amended, 42 U.S.C. 2991b)

Extension of Deadline: ANA may extend application deadlines when circumstances such as acts of God (floods, hurricanes, etc.) occur, when there are widespread disruptions of mail service, or if the Chief Grants Management Officer makes a determination to extend or waive deadline requirements. (Legal authority: Sections 803(a) of the Native Americans Programs Act of 1974, as amended, 42 U.S.C. 2991b)

Intergovernmental Review: Applications are not subject to Executive Order 12372 (Legal authority: 45 CFR 100.3)

Funding Restrictions

ANA does not fund:

• Activities in support of litigation against the United States Government that are unallowable under OMB Circulars A-87 and A-122. (Legal authority: Sections 803 (a) and (d), and 803C of the Native Americans Programs Act of 1974, as amended, 42 U.S.C. 2991b, and 2991b-3; 45 CFR 1336.50(a); 45 CFR 74.27 and 92. 22; OMB Circular A-122, Attachment B, Paragraph 10(g) and OMB Circular A-87, Attachment B, Paragraph 14(b))

• ANA has a policy of not funding duplicative projects or allowing any one community to receive a disproportionate share of the funds available for award. When making decisions on awards of grants the Agency will consider whether the project is essentially identical or similar, in whole or significant part, to projects in the same community previously funded or being funded under the same competition. The Agency will also consider whether the grantee is already receiving funding for a SEDS, Language, or Environmental project from ANA. The Agency will also take into account in making funding decisions whether a proposed project would require funding on indefinite or recurring basis. This determination will be made after it is determined whether the application meets the requirements for eligibility as set forth in 45 CFR 1336, Subpart C, but before funding decisions are complete. (Legal authority: Sections 803 (a) and (d) and 803C of the Native Americans Programs Act of 1974, as amended, 42 U.S.C. 2991b and 2991b-3)

• Projects in which a grantee would provide training and/or technical assistance (T/TA) to other tribes or Native American organizations that are otherwise eligible to apply. However, ANA will fund T/TA requested by a grantee for its own use or for its members' use (as in the case of a consortium), when the T/TA is necessary to carry out project objectives. (Legal authority: Sections 803 (a) and (d) and 803C of the Native Americans Programs Act of 1974, as amended, 42 U.S.C. 2991b and 2991b-3; 45 CFR 1336.33(b)(1))

• The purchase of real property or construction because those activities are not authorized by the Native American Programs Act of 1974, as amended. (Legal authority: Sections 803 (a) and (d) and 803C of the Native Americans Programs Act of 1974, as amended, 42 U.S.C. 2991b and 2991b-3; 45 CFR 1336.33(b)(7))

• Objectives or activities to support core administration activities of an organization. However, functions and activities that are clearly project related are eligible for grant funding. Under Alaska SEDS projects, ANA will consider funding core administrative capacity building projects at the village government level if the village does not have governing systems in place. (Legal authority: Sections 803 (a) and (d) and 803C of the Native Americans Programs Act of 1974, as amended, 42 U.S.C. 2991b and 2991b-3 and 45 CFR 1336.33(b)(4))

• Costs associated with fund raising, including financial campaigns, endowment drives, solicitation of gifts and bequests, and similar expenses incurred solely to raise capital or obtain contributions are unallowable under an ANA grant award. (Legal authority: Sections 803 (a) and (d) and 803C of the Native Americans Programs Act of 1974, as amended, 42 U.S.C. 2991b and 2991b-3; 45 CFR 1336.50; 45 CFR 74.27; OMB Circular A-122, Attachment B, Paragraph 23; OMB Circular A-87, Attachment B, Paragraph 21.)

• Major renovation or alteration because those activities are not authorized under the Native American Programs Act of 1974, as amended. (Legal authority: Sections 803 (a) and (d) and 803C of the Native Americans Programs Act of 1974, as amended, 42 U.S.C. 2991b and 2991b-3)

• Projects originated and designed by consultants who provide a major role for themselves and are not members of the applicant organization, Tribe, or village. (Legal authority: Sections 803 (a) and (d) and 803C of the Native Americans Programs Act of 1974, as amended, 42 U.S.C. 2991b and 2991b-3)

• Project activities that do not further the three interrelated ANA goals of economic development, social development and governance or meet the purpose of this program announcement. (Legal authority: Sections 803 (a) and (d) and 803C of the Native Americans Programs Act of 1974, as amended, 42 U.S.C. 2991b and 2991b-3; 45 CFR 1336.33(b)(5))

Other Submission Requirements: Application Submission: An original and two copies of the complete application are required. The original copy must include all required forms, certifications, assurances, and appendices, be signed by an authorized representative, have original signatures, and be submitted unbound. The two additional copies of the complete application must include all required forms, certifications, assurances, and appendices and must also be submitted unbound. Applicants have the option of omitting from the application copies (not the original) specific salary rates or amounts for individuals specified in the application budget. (Legal authority: Sections 803 (a) of the Native Americans Programs Act of 1974, as amended, 42 U.S.C. 2991b)

A completed application for assistance under this Program Announcement consists of Three Parts. Part One is the SF 424, Required Government Forms, and other required documentation. Part Two of the application is the project substance of the application. This section of the application may not exceed 45 pages. Part Three of the application is the Appendix. This section of the application may not exceed 20 pages (the exception to this 20 page limit applies only to projects that require, if relevant to the project, a Business Plan or any Third-Party Agreements). (Legal authority: Sections 803(a) of the Native Americans Programs Act of 1974, as amended, 42 U.S.C. 2991b)

Part One—Federal Forms and Other Required Documents
Part I of the application for funding must include the following: | Content and location of part I required forms, certifications and documents | When to submit
SF 424, SF 424A, and SF 424B | http://www.acf.hhs.gov/programs/ofs/forms.htm | By application due date.
Table of Contents | Applicant must include a table of contents that accurately identifies the page number and where the information can be located. Table of Contents does not count against application page limit | By application due date.
Project Abstract | ANA Form: OMB Clearance Number 09800204—On ANA Web site http://www.acf.hhs.gov/programs/ana | By application due date.
Proof of Non-Profit Status | As described in this announcement under Section “Other Eligibility Information” | By application due date.
Resolution | Information for submission can be found in the Program Announcement Section “Other Eligibility Information” | By application due date.
Documentation that the Board of Directors is majority Native American, if applicant is other than a tribe or Alaska Native Village government | As described in this announcement under “ANA Administrative Policies” | By application due date.
Audit Letter | A Certified Public Accountant's “Independent Auditors” Report on Financial Statement.” This is usually only a two to three page document. (This requirement applies only to applicants with annual expenditures of $300,000 or more of federal funds). Applicant must also include that portion of the audit document that identifies all other federal sources of funding | By application due date.
Indirect Cost Agreement | Organizations and Tribes must submit a current indirect cost agreement (if claiming indirect costs) that aligns with the approved ANA project period. The Indirect Cost Agreement must identify the individual components and percentages that make up the indirect cost rate | By application due date.
Non-Federal Share of Waiver Request, per CFR 1336.50(b) | A request for a waiver of the non-Federal share requirement may be submitted in accordance with 45 CFR 1336.50(b) (3) of the Native American Program regulations. (if applicable) | By application due date.
Certification regarding Lobbying Disclosure of Lobbying Activities—SF LLL | May be found at www.acf.hhs.gov/programs/ofs/forms.htm | By application due date.
Certification regarding Maintenance of Effort | May be found at www.acf.hhs.gov/programs/ofs/forms.htm | By application due date.
Certification Regarding Debarment, Suspension and other Responsibility Matters (Primary covered transactions and Lower Tier Transactions as appropriate) | May be found at http://www.acf.hhs.gov/programs/ofs/forms.htm | By application due date.
Drug-Free Workplace Certification | May be found at http://www.acf.hhs.gov/programs/ofs/forms.htm | By application due date.
Environmental Tobacco Smoke Certification | May be found at http://www.acf.hhs.gov/programs/ofs/forms.htm | By application due date.

Part Two—Application Review Criteria
PART II—proposed project | Application review criteria—this section may not exceed 45 pages
Criteria One | Project Introduction and Summary.
Criteria Two | Objective and Need for Assistance.
Criteria Three | Project Approach—Include the Objective Work Plan (OWP) form for each year of project.
Criteria Four | Organizational Capacity.
Criteria Five | Results and Benefits Expected.
Criteria Six | Budget and Budget Justification Summary/ Cost Effectiveness.

Part Three—Appendix
PART III—support documentation | Appendix— this section may not exceed 20 pages
| Part III of the submitted application should include only supplemental information or required support documentation that addresses the applicant's capacity to carry out and fulfill the proposed project. These items include: letters of agreement with cooperating entities, in-kind commitment and support letters, business plans, and a summary of the Third Party Agreements. (Do not include books, videotapes, studies or published reports and articles, as they will not be made available to the reviewers, or be returned to the applicant.

(Legal authority: Sections 803(a) of the Native Americans Programs Act of 1974, as amended, 42 U.S.C. 2991b.)

V. Application Review Information

Criteria: ACF Uniform Project Description (UPD)

The UPD text should be used as general guidance in the development of projects. However, the specific ANA application submission format to be used in response to this announcement is located in section IV Application and Submission Information.

Purpose: The Project Description is a major area by which an application is evaluated and ranked in competition with other applications for financial assistance. The Project Description should be concise and complete and should address the activity for which Federal funds are being requested. Supporting documents should be included if they present information clearly and succinctly. In preparing your Project Description, all information requested through each specific evaluation criteria should be provided. ANA uses this and other information to make funding decisions. It is important, therefore, that this information be included in the application.

General Instructions: ANA is particularly interested in specific factual information and statements of measurable goals and performance indicators in quantitative terms. Project descriptions are evaluated on a basis of substance, not length. Extensive exhibits are not required. Cross-referencing should be used rather than repetition. Supporting information that does not directly pertain to an integral part of the grant-funded activity should be placed in the appendix. The application narrative should be in a 12-pitch font. A table of contents and an executive summary should be included. Each page should be numbered sequentially, including attachments or appendices. Please do not include books, videotapes or published reports because they are not easily reproduced, are inaccessible to the reviewers, and will not be returned to the applicant.

Introduction: Applicants are required to submit a full Project Description and shall prepare this portion of the grant application in accordance with the following instructions and the specified evaluation criteria. The introduction provides a broad overview of the Project, and the information provided under each evaluation criteria expands and clarifies the project program-specific activities and information that reviewers will need to assess the proposed project.

Project Summary: Provide a summary of the Project Description (a page or less) with reference to the funding request. (Legal authority: Sections 803(a) of the Native Americans Programs Act of 1974, as amended, 42 U.S.C. 2991b)

Objectives and Need for Assistance: Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the Project Description, the applicant should provide information on the total range of projects currently being conducted and supported (or to be initiated) to ensure they are within the scope of the program announcement. (Legal authority: Sections 803(a) of the Native Americans Programs Act of 1974, as amended, 42 U.S.C. 2991b)

Results or Benefits Expected: Identify the results and benefits to be derived by the community and its members. For example, applicants are encouraged to describe the qualitative and quantitative data collected, how this data will measure progress towards the stated results or benefits, and how performance indicators under economic and social development and governance projects can be monitored, evaluated and verified. (Legal authority: Sections 803(a) of the Native Americans Programs Act of 1974, as amended, 42 U.S.C. 2991b)

Approach: Outline a plan of action that describes the scope and detail of how the proposed work will be accomplished. Account for all functions or activities identified in the application. Cite factors, which might accelerate or decelerate the work and state your reason for taking the proposed approach rather than others. Describe any unusual features of the project such as design or technological innovations, reductions in cost or time, extraordinary social and community involvement or ease of project replication by other tribes and Native organizations. List organizations, cooperating entities, consultants, or other key individuals who will work on the project along with a short description of the nature of their effort or contribution. Provide quantitative monthly or quarterly projections of the accomplishments to be achieved for each function or activity in such terms as the number of people served and the number of activities accomplished. Examples of these activities would be the number of businesses started or expanded, the number of jobs created or retained, the number of people trained, the number of youth, couples or families assisted or the number elders participating in the activity during that reporting period. When accomplishments cannot be quantified by activity or function, list them in chronological order to show the dates and schedule of accomplishments. List organizations, cooperating entities, consultants, or other key individuals who will work on the project, as well as a short description of the nature of their effort or contribution. (Legal authority: Sections 803(a) of the Native Americans Programs Act of 1974, as amended, 42 U.S.C. 2991b)

Staff and Position Data: Provide a biographical sketch for each key person appointed and a job description for each vacant key position. A biographical sketch will also be required for new key staff as appointed. Information should include the qualifications of each staff person as they pertain to the project. (Legal authority: Sections 803(a) of the Native Americans Programs Act of 1974, as amended, 42 U.S.C. 2991b)

Organizational Profiles: Provide information on the applicant organization(s) and cooperating partners with organizational charts, financial statements, audit reports or statements from CPA/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission. (Legal authority: Sections 803(a) of the Native Americans Programs Act of 1974, as amended, 42 U.S.C. 2991b)

Third-Party Agreements: Include written agreements between grantees and sub grantees or subcontractors or other cooperating entities. These agreements must detail scope of work to be performed, work schedules, remuneration, and other terms and conditions that structure or define the relationship. (Legal authority: Sections 803(a) of the Native Americans Programs Act of 1974, as amended, 42 U.S.C. 2991b)

Budget and Budget Justification: Provide line item detail and detailed calculations for each budget object class identified on the Budget Information form. Detailed calculations must include estimation methods, quantities, unit costs, and other similar quantitative detail sufficient for the calculation to be duplicated. The detailed budget must also include a breakout by the funding sources identified in Block 15 of the SF-424. Provide a narrative budget justification that describes how the categorical costs are derived. Discuss the necessity, reasonableness, and allowability of the proposed costs. (Legal authority: Sections 803(a) of the Native Americans Programs Act of 1974, as amended, 42 U.S.C. 2991b)

Geographic Location: Describe the precise location of the project and boundaries of the area to be served by the proposed project. Maps or other graphic aids may be attached. (Legal authority: Sections 803(a) of the Native Americans Programs Act of 1974, as amended, 42 U.S.C. 2991b)

Additional Information: The following are requests for additional information that need to be included in the application: Any non-profit organization submitting an application must submit proof of its non-profit status in the application at the time of submission. The non-profit organization shall submit one of the following verifiable documents: (a) A copy of the applicant's listing in the Internal Revenue Service's (IRS) most recent list of tax exempt organizations described in Section 501(c)(3) of the IRS code, or (b) providing a copy of the currently valid IRS tax exemption certificate, or (c) providing a copy of the articles of incorporation bearing the seal of the State or federally-recognized Tribe in which the corporation or association is domiciled. Organizations incorporating in American Samoa are cautioned that the Samoan government relies exclusively upon IRS determinations of non-profit status; therefore, articles of incorporation approved by the Samoan government do not establish non-profit status for the purpose of ANA program eligibility.

General: The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: first column, object class categories; second column, Federal budget; next column(s), non-Federal budget(s); and last column, total budget. The budget justification should be a narrative.

• Personnel: The description of the costs of employee salaries and wages. Identify the project director or principal investigator, if known. For each staff person, provide the title, time commitment to the project (in months), or time commitment to the project (as a percentage or full-time equivalent), annual salary, grant salary, wage rates, etc. Do not include the costs of consultants or personnel costs of delegate agencies or of specific project(s) or businesses to be financed by the applicant.

• Fringe Benefits: Costs of employee fringe benefits unless treated as part of an approved indirect cost rate. Provide a breakdown of the amounts and percentages that comprise fringe benefit costs such as health insurance, FICA, retirement insurance, taxes, etc.

• Travel: Costs of project-related travel by employees of the applicant organization (does not include costs of consultant travel). Justification: For each trip, show the total number of traveler(s), travel destination, duration of trip, per diem, mileage allowances, if privately owned vehicles will be used, and other transportation costs and subsistence allowances. Travel costs for key staff to attend ACF-sponsored workshops should be detailed in the budget.

• Equipment: Equipment means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.). Justification: For each type of equipment requested, provide a description of the equipment, the cost per unit, the number of units, the total cost, and a plan for use on the project, as well as use or disposal of the equipment after the project ends. An applicant organization that uses its own definition for equipment should provide a copy of its policy or section of its policy, which includes the equipment definition.

• Supplies: Costs of all tangible personal property other than that included under the Equipment category. Justification: Specify general categories of supplies and their costs. Show computations and provide other information that supports the amount requested.

• Contractual: Costs of all contracts for services and goods except for those, which belong under other categories such as equipment, supplies, construction, etc. Third-party evaluation contracts (if applicable) and contracts with secondary recipient organizations, including delegate agencies and specific project(s) or businesses to be financed by the applicant, should be included under this category. Justification: All procurement transactions shall be conducted in a manner to provide, to the maximum extent practical, open and free competition. Recipients and sub-recipients, other than States that are required to use Part 92 procedures, must justify any anticipated procurement action that is expected to be awarded without competition (sole source) and exceed the simplified acquisition threshold fixed at 41 U.S.C. 403(11) (currently set at $100,000.). Recipients may be required to make available to ANA pre-award review and procurement documents, such as request for proposals or invitations for bids, independent cost estimates, etc. Note: Whenever the applicant intends to delegate part of the project to another agency, the applicant must provide a detailed budget and budget narrative for each delegate agency, by agency title, along with the required supporting information referred to in these instructions.

• Other: Enter the total of all other costs. Such costs, where applicable and appropriate, may include but are not limited to insurance, food, medical and dental costs (noncontractual), professional services costs, space and equipment rentals, printing and publication, computer use, training costs, such as tuition and stipends, staff development costs, and administrative costs. Justification: Provide computations, a narrative description, and a justification for each cost under this category.

• Indirect Charges: Total amount of indirect costs. This category should be used only when the applicant currently has an indirect cost rate approved by the Department of the Interior, Department of Labor, the Department of Health and Human Services (HHS), or other Federal agency. Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed.

• Program Income: The estimated amount of income, if any, expected to be generated from this project. Justification: Describe the nature, source, and anticipated use of program income in the budget or refer to the pages in the application, which contain this information.

• Non-Federal Resources: Amounts of non-Federal resources that will be used to support the project as identified in Block 15 of the SF-424. Justification: The firm commitment of these resources must be documented and submitted with the application in order to be given credit in the review process. A detailed budget must be prepared for each budget period.

• Total Direct Charges, Total Indirect Charges, and Total Project Costs (Legal authority: Sections 803(a) of the Native Americans Programs Act of 1974, as amended, 42 U.S.C. 2991b)

Evaluation Criteria

Criteria One: Approach (25 Points)

The applicant should provide a Project Description with objectives and discuss the project approach and the implementation plan. The Applicant's narrative should be clear and concise. It should include a logical breakdown of the project, and discuss in detail the strategy and approach the applicant intends to employ in order to accomplish the project objectives and activities over the project period. In this section, the applicant should describe the project strategy using the Objective Work Plan (OWP). In the OWP, the applicant should identify the project objectives, time frames, proposed activities, outcomes, and evaluation activity, as well as the individuals responsible for completing the objectives and performing the activities. The project description, objective(s), approach, strategy and implementation plan are inter-related. The applicant should also include the names and activities of any organizations, consultants, or other key individuals who will contribute to the project. The Applicant should discuss “Leveraged Resources” (see definition section) used to strengthen and broaden the impact of the proposed project. The Applicant should discuss commitments and how they impact the project. Applicant should provide “Letters of Commitment” that identify the time, dollar amount, and activity to be accomplished through partnerships. Applicants should discuss the relationship of non-ANA funded activities to those objectives and activities that will be funded with ANA grant funds. (Letters of Commitment should be included in the Appendix ). (Legal authority: Sections 803(a) of the Native Americans Programs Act of 1974, as amended, 42 U.S.C. 2991b)

Criteria Two: Objectives and Need for Assistance (20 Points)

Discuss the Need for Assistance. The need for assistance should clearly identify the physical, economic, social, financial, and institutional challenges and problem(s) requiring a solution that supports the funding request. Describe the Community (see Definition section) to be impacted by the project and the Community Involvement in the project. The Applicant should describe the community's long-range goals, and how the project supports these community goals. The applicant describes the planning and/or consultation efforts undertaken, and the proposed objectives and activities that reflect either the economic and social development or governance needs of the local community. Discuss the Geographic Location of the project and where the project and grant will be administered. Applications from National and Regional Indian and Native organizations should clearly demonstrate a need for the project, explain how the project originated, identify the beneficiaries, and describe and relate the actual project benefits to the community and organization. National Indian and Native organizations should also identify their membership and specifically discuss how the organization operates and impacts Native American people and communities. Applicant should show a clear relationship between the proposed project, the social and economic development strategy, and the community's long-range goals. (Legal authority: Sections 803(a) of the Native Americans Programs Act of 1974, as amended, 42 U.S.C. 2991b)

Criteria Three: Organizational Profiles (20 Points)

Provide information on the applicant's organization and cooperating partners. Include organizational charts, and information associated with experience in the program area. Describe the organizations capabilities such as the management structure, the administrative structure, and the program delivery process. If relevant to the project, applicants must provide a Business Plan or any Third-Party Agreements (include in the appendix). Applicants are required to make a positive statement that they will give credit to the Administration for Native Americans, and reference the ANA funded project on any audio, video, and/or printed materials developed in whole or in part with ANA funds. Applicants should list all current sources of federal funding, the agency, purpose, amount, and provide the most recent certified signed audit letter for the organization to be included in Part One of the application. If the applicant has audit exceptions, these issues should be addressed. Applicants should provide evidence of its ability to successfully manage a project of similar scope. Applicant should provide “staffing and position data”. This is a proposed staffing pattern for the project where the Applicant highlights the new project and staff. All positions proposed for the project are the same positions discussed in the Objective Work Plan and in the proposed budget. Note: Applicants are strongly encouraged to give preference to qualified Native Americans in hiring project staff and in contracting services under an approved ANA grant. Applicant should provide a paragraph of the duties and skills required for the proposed staff and a paragraph on qualifications and experience of current staff (Full position descriptions are required to be submitted in the Appendix). Applicant should explain and discuss how the current and future staff will manage the proposed project. (Legal authority: Sections 803(a) and Section 803B(c) (6) of the Native Americans Programs Act of 1974, as amended, 42 U.S.C. 2991b and 2991b-2)

Criteria Four: Results or Benefits Expected (20 Points)

In this section the applicant should discuss the “Performance Indicators” (see Definition section) and the Benefits Expected as a result of this Project. Performance indicators specifically identify qualitative and quantitative data directly associated with the project. Each applicant may select five indicators to support the applicant's project. Three of the performance indicators may be selected from the list below. Each grantee is required to develop two additional indicators that are project specific and directly support the success of the project objectives and goals. Each performance indicator should be discussed in the application, as well as the method for collecting the data and evaluating the project. Performance indicators will be reported to ANA in the grantee's quarterly report. Three of the five Performance indicators required, should be selected from the following list: (1) The number of jobs created; (2) the number of workshops/classes provided; (3) the number of people to successfully complete a workshop/class; (4) the number of community-based small businesses established or expanded; (5) identify the tribal or village government business, industry, energy or financial codes or ordinances that were adopted; and (6) the number of children, youth, families or elders assisted. In this section discuss how the applicant will determine the success of the individual project components and the project as a whole. The applicant should describe how the success of the project would be evaluated and verified by an independent program monitoring and evaluation team. Applicant should provide a narrative on the specific performance indicators that can be analyzed, measured, monitored, and evaluated. For example, if requesting funds for a conference, workshop, or an educational activity, the applicant should discuss the value and long-term impact to the recipient and the community and discuss how the information has an impact on the project goals. What will the participants gain by attending the activity and how the knowledge, training, and skills gained, will improve the lives of children and families. Relate these performance indicators to the project goals, objectives, and outcomes. The applicant should discuss how the project will be sustainable or how the resulting product will be used to further the community's needs, goals, and objectives. Applicants should discuss and present objectives and goals to be achieved and evaluated at the end of each budget period. Project objectives support the identified need and should be measurable. (Legal authority: Sections 803(a) of the Native Americans Programs Act of 1974, as amended, 42 U.S.C. 2991b)

Criteria Five: Budget and Budget Justification/ Cost Effectiveness (5/5 Points)

An applicant must submit an itemized budget detailing the applicant's Federal and non-Federal share with source(s) of funding cited. The applicant should provide a detailed line item Federal and Non-federal share budget by year for each year of project funds requested. A budget narrative describing the line item budget should be attached for each year of project funds requested. The budget should include a line item justification for each Object Class Category listed under Section B—“Budget Categories” of the “Budget Information-Non Construction Programs on the SF 424A form. The budget should include the necessary details to facilitate the determination of allowable costs and the relevance of these costs to the proposed project. Up to five points will be awarded for the budget and budget justification. Up to an additional five points will be added to the applicant's score based on the demonstration of an effective cost-benefit relationship for the proposed project. This criterion reflects ANA's concern with ensuring that the expenditure of its limited resources yields the greatest benefit possible in achieving the economic and social self-sufficiency for Native American communities. (Legal authority: Sections 803(a) of the Native Americans Programs Act of 1974, as amended, 42 U.S.C. 2991b.)

Applicant should explain how the project components, not funded by ANA will be financed through other resources. The applicant is required to describe any specific financial circumstances, which may impact the project, such as any monetary or land settlements made to the applicant, and any restrictions on the use of those settlements. When the applicant appears to have other resources to support the proposed project and chooses not to use them, the applicant should explain why it is seeking ANA funds and not utilizing its available resources to support the project. (Legal authority: Sections 803(a) of the Native Americans Programs Act of 1974, as amended, 42 U.S.C. 2991b.)

The non-federal budget share should identify the source and be supported by letters of commitment (see Definitions). Letters of commitment are binding when they specifically state the nature, the amount, and conditions under which another agency or organization will support a project funded with ANA funds. These resources may be human, natural, or financial, and may include other Federal and non-Federal resources. For example, a letter from another Federal agency or foundation pledging a commitment of $200,000 in construction funding to complement proposed ANA funded pre-construction activity is evidence of a firm funding commitment. Statements that additional funding will be sought from other specific sources are not considered a binding commitment of outside resources. Letters of Support merely express another organization's endorsement of a proposed project. Support letters are not binding commitment letters. They do not factually establish the authenticity of other resources and do not offer or bind specific resources to the project. (Legal authority: Sections 803(a) of the Native Americans Programs Act of 1974, as amended, 42 U.S.C. 2991b.)

If an applicant plans to charge or otherwise seek credit for indirect costs in its ANA application, a current copy of its Indirect Cost Rate Agreement should be included in the application, with all cost broken down by category so ANA reviewers can determine what is included in the indirect cost pool. (Legal authority: Sections 803(a) of the Native Americans Programs Act of 1974, as amended, 42 U.S.C. 2991b.)

The budget includes sufficient funds for principal representatives, such as the chief financial officer or project director from the applicant organization to travel to one ANA post-award grant training and technical assistance workshop. This expenditure is mandatory for new grant recipients and optional for grantees that have had previous ANA grant awards. Applicants may also include costs to travel to an ANA grantee conference. (Legal authority: Sections 803(a) of the Native Americans Programs Act of 1974, as amended, 42 U.S.C. 2991b.)

For business development projects, the proposal should demonstrate that the expected return on the ANA funds used to develop the project will provide a reasonable operating income and investment return within a specified time period. If a profit-making venture is being proposed, profits should be reinvested in the business in order to decrease or eliminate ANA's future participation. Such revenue should be reported as general program income. A decision will be made at the time of the grant award regarding appropriate use of program income. (See 45 CFR part 74 and part 92). (Legal authority: Sections 803(a) of the Native Americans Programs Act of 1974, as amended, 42 U.S.C. 2991b.)

Criteria Six: Project Introduction and Summary/Abstract (5 Points)

The applicant should provide a Project Introduction. The Introduction will provide the reader an overview and some details of the proposed project. This is where the project is introduced to the peer review panel. Identify the name of the applicant, location of the community to be served by the proposed project, the project activities, funding amount requested, amount of matching funds to be provided, the length of time required to accomplish the project, and the outcomes or outputs to be achieved. (Legal authority: Sections 803(a) of the Native Americans Programs Act of 1974, as amended, 42 U.S.C. 2991b)

Review and Selection Process

Initial Screening: Each application submitted under an ANA program announcement will undergo a pre-review screening to determine if (a) the application was received by the Program Announcement closing date; (b) the application was submitted in accordance with section IV “Application and Submission Information”; (c) the applicant is eligible for funding; (d) the applicant has submitted the proper support documentation such as proof of non-profit status, resolutions, and required government forms; and (e) an authorized representative has signed the application. An application that does not meet one of the above elements will be determined to be ineligible and excluded from the competitive review process. Ineligible applicants will be notified by mail within 30 business days from the closing date of this program announcement. ANA staff cannot respond to requests for information regarding funding decisions prior to the official applicant notification. After the Commissioner has made funding decisions, unsuccessful applicants will be notified in writing within 90 days. Applicants are not ranked based on general financial need. Applicants, who are initially excluded from competition because of ineligibility, may appeal the Agency's decision. Likewise, applicants may also appeal an ANA decision that an applicant's proposed activities are ineligible for funding consideration. The appeals process is stated in the final rule published in the Federal Register on August 19, 1996 (61 FR 42817 and 45 CFR part 1336, subpart C). ANA has a policy of not funding duplicative projects or allowing any one community to receive a disproportionate share of the funds available for award. When making decisions on awards of grants the Agency will consider whether the project is essentially identical or similar, in whole or significant part, to projects in the same community previously funded or being funded under the same competition. The Agency will also consider whether the grantee is already receiving funding for a SEDS project or for another project from ANA. The Agency will also take into account in making funding decisions whether a proposed project would require funding on indefinite or recurring basis.

Competitive Review Process: Applications that pass the initial ANA screening process will be analyzed, evaluated and rated by an independent review panel on the basis of the Evaluation Criteria specified. The evaluation criteria were designed to analyze and assess the quality of a proposed community-based project, the likelihood of its success, and the ability to monitor and evaluate community impact and long-term results. The evaluation criteria and analysis are closely related and are wholly considered in judging the overall quality of an application. In addition, the evaluation criteria will standardize the review of each application and distribute the number of points more equitably.

Application Review Criteria: ANA has expanded the review criteria to allow for a more equitable distribution of points during the application review and competition process. ANA will improve the competitive review process through the use of six criteria that will evenly distribute evaluation points. The use of six criteria will standardize the review of each application and distribute the number of points more equitably. Based on the ACF Uniform Project Description, ANA's criteria categories are Project Introduction; Objectives and Need for Assistance; Project Approach; Organizational Capacity; Results and Benefits Expected; and Budget and Budget Narrative.

Application Consideration: The Commissioner's funding decision is based on an analysis of the application by the review panel, the panel review scores, recommendations of the ANA staff, comments of State and Federal agencies having contract and grant performance related information, and other interested parties. The Commissioner makes grant awards consistent with the purpose of the Native American Programs Act (NAPA), all relevant statutory and regulatory requirements, this program announcement, and the availability of appropriated funds.

The Commissioner reserves the right to award more, or less, than the funds described or under such circumstances as may be deemed to be in the best interest of the federal government. Applicants may be required to reduce the scope of projects based on the amount of approved award.

VI. Award Administration Information

Anticipated Announcement and Award Date: 120 days after the due date of applications.

Award Notices: 120 days after the due date of applications.

Administrative and National Policy Requirements: 45 CFR part 74 and 45 CFR part 92 and 45 CFR part 1336, subpart C) and 42 U.S.C. 2991 et seq.—Native American Programs Act of 1974;

Reporting Requirements:

Programmatic Reports: Quarterly.

Financial Reports: Quarterly.

Special Reporting Requirements: An original and one copy of each performance report and financial status report must be submitted to the Grants Officer. Failure to submit these reports when required will mean the grantee is non-compliant with the terms and conditions of the grant award and subject to administrative action or termination. Performance reports are submitted 30 days after each quarter (3-month intervals) of the project period. The final performance report, due 90 days after the project period end date, shall cover grantee performance during the entire project period. All grantees shall use the SF 269 (Long Form) to report the status of funds. Grantees shall submit semi-annual Financial Status Reports that shall be due 30 days after the end of the second and fourth quarter of each budget period. The final report shall be due 90 days after the end of the project period. (Legal authority: Sections 803(a) of the Native Americans Programs Act of 1974, as amended, 42 U.S.C. 2991b; 45 CFR 1336.50(a); 45 CFR 74.51 and 74.52; 45 CFR 92.40 and 92.41)

VII. Agency Contacts

Program Office Contact: ANA Applicant Help Desk at 202-690-7776 or toll free at 1-877-922-9262 for assistance.

Grants Management Office Contact: Lois B. Hodge, 370 L'Enfant Promenade, SW., Aerospace Building 8th Floor-West, Washington, DC 20447-0002, Telephone: (202) 401-2344, E-mail: Lhodge@acf.dhhs.gov.

VIII. Other Information

Training and Technical Assistance: All potential ANA applicants are eligible to receive free T&TA in the SEDS, Language, or Environmental program areas. Prospective applicants should check ANA's Web site for training and technical assistance dates and locations, or contact the ANA Help Desk at 1-877-922-9262. Due to the new application and program additions and modifications, ANA strongly encourages all prospective applicants to participate in free pre-application training. (Legal authority: Sections 804 of the Native Americans Programs Act of 1974, as amended, 42 U.S.C. 2991c)

Paperwork Reduction Act of 1995 (Pub. L. 104-13): Under the Paperwork Reduction Act of 1995, Public Law 104-13, the Department is required to submit to the Office of Management and Budget (OMB) for review and approval of any reporting and record keeping requirements in regulations including program announcements. This program announcement does not contain information collection requirements beyond those approved for ANA grant applications under the Program Narrative Statement by OMB (Approval Number 0980-0204).

I. Program Area: 2

Alaska Social and Economic Development Strategies for Native Americans

In fiscal year 1984, ANA implemented a special Alaska Social and Economic Development initiative to support activities at the village level. This special effort was designed to provide small amounts of project seed money for village-specific projects to improve and strengthen the capacity of village governments, an integral part of social and economic self-sufficiency. ANA continues to implement this special initiative with a renewed awareness that economic, social and governance development is interrelated. ANA believes both the non-profit and for-profit corporations in Alaska can play an important supportive role in assisting individual villages in the development and implementation of their own locally determined strategies, which capitalize on opportunities afforded to Alaska Natives under the Alaska Native Claims Settlement Act (ANCSA), (Legal authority: Sections 803(a) of the Native Americans Programs Act of 1974, as amended, 42 U.S.C. 2991b.)

The Program Areas of Interest are projects that ANA considers supportive to Native American communities. Although eligibility for funding is not restricted to the projects of the type listed under this program announcement, these Areas of Interest are ones which ANA sees as particularly beneficial to the development of healthy Native American communities.

Economic Development: Involves the promotion of the physical, commercial, technological, industrial, and / or agricultural components necessary for a sustainable local community. Applicants are encouraged to develop sustainable projects to support sustainable, stable, and diversified private sector local economies.

Program Areas of Interest include:

• Projects to strengthen an organization's capacity to deliver business technical assistance, workshops, financial literacy programs, and that create, expand, and retain public and private sector community-based businesses.

• Projects to increase cooperative enterprise development activities, and technical capacity of youth to establish and operate cooperative businesses with the goal of teaching financial, management and long-term employment skills.

• Projects to develop and coordinate emergency response services within the community and with State and local governments to protect against Acts of Nature and other catastrophic events such as fire, floods, and environmental catastrophes.

• Projects to implement initiatives for Tribes to evaluate the economic potential of energy resources in their community, including renewable energy sources such as: Bio-energy, Geothermal, Hydrogen, Hydropower, Ocean, Solar, Wind, or other methods appropriate to the tribe and geographical location.

• Projects to develop community transportation activities that support the needs of the elderly, the disabled, and the local workforce.

• Projects to develop organizational and management capacity building activities that enhance community based program delivery systems and services.

• Projects to develop and implement community-based activities that increase International Tourism and trade activities for Native American products, services, and communities. Business sectors of interest include: the export of Native American packaged foods; arts and crafts; literature and music; manufactured products; agricultural and organic products; value-added product assembly or processing that includes agriculture and aquaculture.

• Projects to develop and enhance subsistence activities that retain, or re-establish Native traditional foods and or by-products of natural resources for local and commercial markets. Develop and/or strengthen the local economy through enhanced commercial trade in areas such as agriculture, aquaculture, lumber, and traditional arts and crafts. (Legal authority: Sections 803(a) of the Native Americans Programs Act of 1974, as amended, 42 U.S.C. 2991b)

Social Development: The investment in human and social capital for advancing people's well being. Applicants are encouraged to develop and implement culturally appropriate programs to enhance tribal, community, and village activities. Social development programs under this area support families, elders, parents, positive youth development, healthy marriage, individuals with disabilities, and personal commitment.

Program Areas of Interest include:

• Healthy Relationships and Strengthening Families Initiative: The goal is to promote healthy family environments and strengthen co-parenting teamwork, problem-solving, and conflict resolution. To respond to this initiative, applicants should consider comprehensive projects that are culturally and socially appropriate to teach couples relationship-building skills, such as negotiation-based interpersonal communications, collaborative problem solving, and preservation of love, commitment, and friendship. Applicants are encouraged to be creative in their efforts to integrate elders into these projects to support traditional values and methods. Initiatives could address problematic periods in the family life cycle such as: pregnancy, postpartum care, first-time parenthood, parenting adolescents, and goal setting for independent young adults.

• Project to strengthen the long-term commitment of married couples. Projects should consider the enhancement of relationship skills through premarital counseling, mentoring activities, or role model activities.

• Projects to support young families in order to reduce the challenges and stress of child rearing, and the risks associated with child/infant abuse and neglect, strengthening the bonds between parents and children, and particularly between fathers and children and the fathers' role in healthy families.

• In partnership with community and or faith-based organizations, develop and implement comprehensive culturally and socially appropriate projects to help youth practice personal responsibility; reach a balance in their lives by learning how to set and meet short and long-term goals; and to practice healthy lifestyles with the goal of decreasing gang activity, school drop out rates and juvenile delinquency.

• Projects to recruit, train, and certify new Native American foster parents or promote appropriate extended family placements or to assist abused, neglected, and abandoned Native American children, youth, and their families.

• Projects to develop, coordinate, and implement training for Native Americans with disabilities in order to join the workforce, obtain information and technical assistance to apply for disability benefits, gain access to workplace facilities, and receive reasonable accommodations necessary to perform job functions. (Legal authority: Sections 803(a) of the Native Americans Programs Act of 1974, as amended, 42 U.S.C. 2991b.)

Governance: Involves assistance to Tribal and Alaska native Village government leaders to increase their ability to execute local control and decision-making over their resources. ANA encourages applications for the development of laws and policies that support community-based social, economic and governance activities. Governance projects under this area may be used for leadership and management training or to assist eligible applicants in the development of laws, regulations, codes, policies, and practices that support and promote community based activities. Program Areas of Interest include:

• Projects to enact laws that support and enforce business and investment transactions, contracts, and property rights. For example, develop and implement Uniform Commercial Codes (business codes) and Tax Codes.

• Projects to enact laws, ordinances, and policies, to develop, expand, and/or enhance utility and communications infrastructures.

• Projects to enrich and strengthen the management and leadership skills of senior Tribal government personnel, and senior management personnel of tribally owned companies.

• Projects to establish and implement technology management information systems to assist with the effective and efficient administration of tribal government programs.

• Projects to develop or amend tribal constitutions, government procedures and functions, by-laws or codes, and council or executive branch duties in order to improve the regulatory, judicial and/or administrative infrastructure of tribal and village governments. (Legal authority: Sections 803(a) of the Native Americans Programs Act of 1974, as amended, 42 U.S.C. 2991b.)

II. Award Information

Applications from Alaska Native entities may submit under either SEDS or Alaska SEDS but not both program areas. The SF 424 must clearly indicate the correct program area.

Funding Instrument Type: Grant.

Anticipated Total Program Area Funding: $2,000,000.

Anticipated Number of Awards: 10-20.

Average Projected Award Amount:

$25,000-$125,000 for Individual Village Projects.

$25,000-$175,000 for Regional Non-profit and Village consortia.

Length of Project Period: 12, 17, 24, or 36 months.

Ceiling on amount of individual Awards:$175,000 for Regional non-profit and Village consortia.

$125,000 for Individual Village projects. (Legal authority: Sections 803(a) f of the Native Americans Programs Act of 1974, as amended, 42 U.S.C. 2991b.)

An application that exceeds the upper value of the dollar range specified will be considered “non-responsive” and be returned to the applicant without further review. (Legal authority: Sections 803(a) of the Native Americans Programs Act of 1974, as amended, 42 U.S.C. 2991b.)

Floor Amount: $25,000 (Legal authority: Sections 803(a) of the Native Americans Programs Act of 1974, as amended, 42 U.S.C. 2991b.)

III. Eligibility Information

Eligible Applicants:

• Federally Recognized Indian tribes in Alaska;

• Alaska Native villages, as defined in the Alaska Native Claims Settlement Act (ANSCA)and/or non-profit village consortia;

• Non-profit Alaska Native Regional Corporations/Associations in Alaska with village specific projects;

• Incorporated non-profit Alaska Native multi-purpose community-based organizations

• Non-profit Native organizations in Alaska with village specific projects. (Legal authority: Sections 803(a) of the Native Americans Programs Act of 1974, as amended, 42 U.S.C. 2991b; 45 CFR 1336.33(a) (2).)

Additional Information on Eligibility:

Cost Sharing or Matching: Grantees must provide at least 20 percent of the total approved cost of the project. The total approved cost of the project is the sum of the ACF share and the non-federal share. The required match can be computed by dividing total Federal funds by 80 percent for total project costs then subtracting the Federal portion. The remainder is the required match. For example, a project requesting $100,000 in Federal funds (per budget period) must provide a match of at least $ 25,000 ($100,000 / 80% = $125, 000-$100,000 = $25,000). Grantees must be able to verify commitments of the non-Federal resources. Failure to provide the non-federal share match will result in the disallowance of Federal funding commitment. (Legal authority: Sections 803(a) of the Native Americans Programs Act of 1974, as amended, 42 U.S.C. 2991b.)

A request for a waiver of the non-Federal share requirement may be submitted in accordance with 45 CFR 1336.50(b) (3) of the Native American Program regulations.

Acceptable Proof of Non-profit Status includes:

• A copy of the applicant organization's listing in the Internal Revenue Service's (IRS) most recent list of tax-exempt organizations described in the IRS Code; or

• A copy of a currently valid IRS tax exemption certificate; or

• Provide a copy of the articles of incorporation bearing the seal of the State or federally-recognized Tribe in which the corporation or association is domiciled. (Legal authority: Sections 803(a) of the Native Americans Programs Act of 1974, as amended, 42 U.S.C. 2991b.)

Resolution: Applicants are required to include a current signed Resolution (a formal decision voted on by the official governing body) in support of the project for the entire project period. The Resolution must indicate who is authorized to sign documents and negotiate on behalf of the Tribe or organization. The Resolution should indicate that the community was involved in the project planning process, and indicate the specific dollar amount of any non-federal matching funds (if applicable). (Legal authority: Sections 803(a) of the Native Americans Programs Act of 1974, as amended, 42 U.S.C. 2991b.)

IV. Application and Submission Information

To request an application package, please contact: The ANA regional Training and Technical Assistance (T/TA) provider at: Native American Management Services, Inc., 11723 Old Glenn Highway, suite 201, Eagle River, Alaska 99577, Toll Free 877-770-6230, (907) 694-5711, Fax (907) 694-5775, P.J. Bell, Project Manager, E-mail: pjbell@gci.net, http://www.anaalaska.org. Region III: Alaska.

Content and Form of Submission

Organization and Preparation of Application: Due to the intensity and pace of the application review and evaluation process, ANA strongly recommends applicants organize, label, and insert required information in accordance with Part One, Part Two and Part Three as presented in the charts below. The application should begin with the information requested in Part One of the chart in the prescribed order. Utilizing this format will insure all information submitted to support an applicant's request for funding is thoroughly reviewed. Submitting information in this format will assist the panel reviewer in locating and evaluating the information. Deviation from this suggested format may reduce the applicant's ability to receive maximum points, which are directly related to ANA's funding review decisions. (Legal authority: Sections 803(a) of the Native Americans Programs Act of 1974, as amended, 42 U.S.C. 2991b.)

ANA Application Format: This format applies to all applicants submitting applications for funding. ANA will now require all applications to be labeled in compliance with the format provided in the program announcement. All pages submitted (including Government Forms, certifications and assurances) should be numbered consecutively. The paper size shall be 8½ x 11 inches, line spacing shall be a space and a half (1.5 line spacing), printed only on one side, and have a half-inch margin on all sides of the paper. The font size should be no smaller than 12-point and the font type shall be Times New Roman. These requirements do not apply to the project Abstract Form, Letters of Commitment, the Table of Contents, and the Objective Work Plan. (Legal authority: Sections 803(a) of the Native Americans Programs Act of 1974, as amended, 42 U.S.C. 2991b.)

Submission Date and Time:

Deadline: The closing time and date for receipt of applications is 4:30 p.m. (Eastern Time Zone) on March 26, 2004. Mailed or hand-delivered applications received after 4:30 p.m. on the closing date will be classified as late. (Legal authority: Sections 803(a) of the Native Americans Programs Act of 1974, as amended, 42 U.S.C. 2991b.)

Mailed applications shall be considered as meeting an announced deadline if they are received on or before the deadline time and date at the: U.S. Department of Health and Human Services, Administration for Children and Families, Office of Grants Management, Division of Discretionary Grants, Attention: Lois B. Hodge, ANA No. 93612-2004, 370 L'Enfant Promenade, SW., Mail Stop: Aerospace Center 8th Floor-West, Washington, DC 20447-0002.

Hand Delivery: Applicant must provide an original application with all attachments, signed by an authorized representative and two copies. The Application must be received at the address below by 4:30 p.m. Eastern Standard Time on or before the closing date. Applications that are hand delivered will be accepted between the hours of 8 a.m. to 4:30 p.m., Monday through Friday. Applications may be delivered to: U.S. Department of Health and Human Services, Administration for Children and Families, Office of Grants Management, Division of Discretionary Grants, ACF Mail Room, Second Floor Loading Dock, Aerospace Center, 901 D Street, SW., Washington, DC 20024, Attention: Lois B. Hodge, ANA No. 93612-2004.

It is strongly recommended that applicants obtain documentation from the ACF Mail Room that the application was hand delivered on or before the closing date. Applicants are cautioned that express/overnight mail services do not always deliver as agreed.

Late Applications: Applications that do not meet the deadline criteria will be considered unresponsive to the program announcement and late. To avoid errors, ANA will notify each late applicant that its application will not be considered for review in the current competition. (Legal authority: Sections 803(a) of the Native Americans Programs Act of 1974, as amended, 42 U.S.C. 2991b.)

Extension of Deadline: ANA may extend application deadlines when circumstances such as acts of God (floods, hurricanes, etc.) occur, when there are widespread disruptions of mail service, or if the Chief Grants Management Officer makes a determination to extend or waive deadline requirements. (Legal authority: Sections 803(a) of the Native Americans Programs Act of 1974, as amended, 42 U.S.C. 2991b.)

Intergovernmental Review: Applications are not subject to Executive Order 12372.

Funding Restrictions:

ANA does not fund:

• Activities in support of litigation against the United States Government that are unallowable under OMB Circulars A-87 and A-122. (Legal authority: Sections 803(a) and (d), and 803C of the Native Americans Programs Act of 1974, as amended, 42 U.S.C. 2991b, and 2991b-3; 45 CFR 1336.50(a); 45 CFR 74.27 and 92. 22; OMB Circular A-122, Attachment B, Paragraph 10(g) and OMB Circular A-87, Attachment B, Paragraph 14(b))

• Duplicative projects or does not allow any one community to receive a disproportionate share of the funds available for award. When making decisions on awards of grants the Agency will consider whether the project is essentially identical or similar, in whole or significant part, to projects in the same community previously funded or being funded under the same competition. The Agency will also consider whether the grantee is already receiving funding for a SEDS, Language, or Environmental project from ANA. The Agency will also take into account in making funding decisions whether a proposed project would require funding on indefinite or recurring basis. This determination will be made after it is determined whether the application meets the requirements for eligibility as set forth in 45 CFR 1336, Subpart C, but before funding decisions are complete. (Legal authority: Sections 803 (a) and (d) and 803C of the Native Americans Programs Act of 1974, as amended, 42 U.S.C. 2991b and 2991b-3)

• Projects in which a grantee would provide training and/or technical assistance (T/TA) to other tribes or Native American organizations that are otherwise eligible to apply. However, ANA will fund T/TA requested by a grantee for its own use or for its members' use (as in the case of a consortium), when the T/TA is necessary to carry out project objectives. (Legal authority: Sections 803 (a) and (d) and 803C of the Native Americans Programs Act of 1974, as amended, 42 U.S.C. 2991b and 2991b-3; 45 CFR 1336.33(b)(1))

• The purchase of real property or construction because those activities are not authorized by the Native American Programs Act of 1974, as amended. (Legal authority: Sections 803 (a) and (d) and 803C of the Native Americans Programs Act of 1974, as amended, 42 U.S.C. 2991b and 2991b-3; 45 CFR 1336.33(b)(7))

• Objectives or activities to support core administration activities of an organization. However, functions and activities that are clearly project related are eligible for grant funding. Under Alaska SEDS projects, ANA will consider funding core administrative capacity building projects at the village government level if the village does not have governing systems in place. (Legal authority: Sections 803 (a) and (d) and 803C of the Native Americans Programs Act of 1974, as amended, 42 U.S.C. 2991b and 2991b-3 and 45 CFR 1336.33(b)(4))

• Costs associated with fund raising, including financial campaigns, endowment drives, solicitation of gifts and bequests, and similar expenses incurred solely to raise capital or obtain contributions are unallowable under an ANA grant award. (Legal authority: Sections 803 (a) and (d) and 803C of the Native Americans Programs Act of 1974, as amended, 42 U.S.C. 2991b and 2991b-3; 45 CFR 1336.50; 45 CFR 74.27; OMB Circular A-122, Attachment B, Paragraph 23; OMB Circular A-87, Attachment B, Paragraph 21.)

• Major renovation or alteration because those activities are not authorized under the Native American Programs Act of 1974, as amended. (Legal authority: Sections 803 (a) and (d) and 803C of the Native Americans Programs Act of 1974, as amended, 42 U.S.C. 2991b and 2991b-3)

• Projects originated and designed by consultants who provide a major role for themselves and are not members of the applicant organization, Tribe, or village. (Legal authority: Sections 803 (a) and (d) and 803C of the Native Americans Programs Act of 1974, as amended, 42 U.S.C. 2991b and 2991b-3)

• Project activities that do not further the three interrelated ANA goals of economic development, social development and governance or meet the purpose of this program announcement. (Legal authority: Sections 803 (a) and (d) and 803C of the Native Americans Programs Act of 1974, as amended, 42 U.S.C. 2991b and 2991b-3; 45 CFR 1336.33(b)(5))

Other Submission Requirements

An original and two copies of the complete application are required. The original copy must include all required forms, certifications, assurances, and appendices, be signed by an authorized representative, have original signatures, and be submitted unbound. The two additional copies of the complete application must include all required forms, certifications, assurances, and appendices and must also be submitted unbound. (Legal authority: Sections 803(a) of the Native Americans Programs Act of 1974, as amended, 42 U.S.C. 2991b.)

A completed application for assistance under this Program Announcement consists of Three Parts. Part One is the SF 424, Required Government Forms, and other required documentation. Part Two of the application is the project substance of the application. This section of the application may not exceed 45 pages. Part Three of the application is the Appendix. This section of the application may not exceed 20 pages (the exception to this 20 page limit applies only to projects that require, if relevant to the project, a Business Plan or any Third-Party Agreements). (Legal authority: Sections 803(a) of the Native Americans Programs Act of 1974, as amended, 42 U.S.C. 2991b.)

Part One—Federal Forms and Other Required Documents
Part I of the application for funding must include the following | Content and location of part I required forms, certifications and documents | When to submit
SF 424, SF 424 A, and SF 424B | http://www.acf.hhs.gov/programs/ofs/forms.htm | By application due date.
Table of Contents | Applicant must include a table of contents that accurately identifies the page number and where the information can be located. Table of Contents does not count against application page limit | By application due date.
Project Abstract | ANA Form: OMB Clearance Number 09800204—On ANA Web Site http://www.acf.hhs.gov/programs/ana | By application due date.
Proof of Non-Profit Status | As described in this announcement under “Other Eligibility Information” | By application due date.
Resolution | Information for submission can be found in the Program Announcement Section “Other Eligibility Information.” | By application due date.
Documentation that the Board of Directors is majority Native American, if applicant is other than a tribe or Alaska Native Village government | As described in this announcement under “ANA Administrative Policies” section | By application due date.
Audit Letter | A Certified Public Accountant's “Independent Auditors’ Report on Financial Statement.” This is usually only a two to three page document. (This requirement applies only to applicants with annual expenditures of $300,000 or more of federal funds). Applicant must also include that portion of the audit document that identifies all other federal sources of funding | By application due date.
Indirect Cost Agreement | Organizations and Tribes must submit a current indirect cost agreement (if claiming in-direct costs) that aligns with the approved ANA project period. The In-direct Cost Agreement must identify the individual components and percentages that make up the indirect cost rate | By application due date.
Non-Federal Share of Waiver Request, per CFR 1336.50(b) | A request for a waiver of the non-Federal share requirement may be submitted in accordance with 45 CFR 1336.50(b)(3) of the Native American Program regulations (if applicable) | By application due date.
Certification regarding Lobbying Disclosure of Lobbying Activities—SF LLL | May be found at www.acf.hhs.gov/programs/ofs/forms.htm | By application due date.
Certification regarding Maintenance of Effort | May be found at www.acf.hhs.gov/programs/ofs/forms.htm | By application due date.
Certification Regarding Debarment, Suspension and Other Responsibility Matters (Primary covered transactions and Lower Tier Transactions as appropriate) | May be found at http://www.acf.hhs.gov/programs/ofs/forms.htm | By application due date.
Drug-Free Workplace Certification | May be found at http://www.acf.hhs.gov/programs/ofs/forms.htm | By application due date.
Environmental Tobacco Smoke Certification | May be found at http://www.acf.hhs.gov/programs/ofs/forms.htm | By application due date.

Part Two—Application Review Criteria
Part II—Proposed Project | Application review criteria—this section may not exceed 45 pages
Criteria One | Project Introduction and Summary.
Criteria Two | Objective and Need for Assistance.
Criteria Three | Project Approach—Include an Objective Work Plan form for each year of project period.
Criteria Four | Organizational Capacity.
Criteria Five | Results and Benefits Expected.
Criteria Six | Budget and Budget Justification Summary/ Cost Effectiveness.

Part Three—Appendix
Part III—support documentation | Appendix—this section may not exceed 20 pages
| Part III of the submitted application should include only supplemental information or required support documentation that addresses the applicant's capacity to carry out and fulfill the proposed project. These items include: letters of agreement with cooperating entities, in-kind commitment and support letters, business plans, and a summary of the Third Party Agreements. (Do not include books, videotapes, studies or published reports and articles, as they will not be made available to the reviewers, or be returned to the applicant.

(Legal authority: Sections 803(a) of the Native Americans Programs Act of 1974, as amended, 42 U.S.C. 2991b.)

V. Application Review Information

Criteria: ACF Uniform Project Description

The UPD text should be used as general guidance in the development of projects. However, the specific ANA application submission format to be used in response to this announcement is located in section IV “Application and Submission Information”.

Purpose: The Project Description is a major area by which an application is evaluated and ranked in competition with other applications for financial assistance. The Project Description should be concise and complete and should address the activity for which Federal funds are being requested. Supporting documents should be included if they present information clearly and succinctly. In preparing your Project Description, all information requested through each specific evaluation criteria should be provided. ANA uses this and other information to make funding decisions. It is important, therefore, that this information be included in the application. (Legal authority: Sections 803(a) of the Native Americans Programs Act of 1974, as amended, 42 U.S.C. 2991b.)

General Instructions: ANA is particularly interested in specific factual information and statements of measurable goals and performance indicators in quantitative terms. Project descriptions are evaluated on a basis of substance, not length. Extensive exhibits are not required. Cross-referencing should be used rather than repetition. Supporting information that does not directly pertain to an integral part of the grant-funded activity should be placed in the appendix. The application narrative should be in a 12-pitch font. A table of contents and an executive summary should be included. Each page should be numbered sequentially, including attachments or appendices. Please do not include books, videotapes or published reports because they are not easily reproduced, are inaccessible to the reviewers, and will not be returned to the applicant. (Legal authority: Sections 803(a) of the Native Americans Programs Act of 1974, as amended, 42 U.S.C. 2991b.)

Introduction: Applicants are required to submit a full Project Description and shall prepare this portion of the grant application in accordance with the following instructions and the specified evaluation criteria. The introduction provides a broad overview of the Project, and the information provided under each evaluation criteria expands and clarifies the project program-specific activities and information that reviewers will need to assess the proposed project. (Legal authority: Sections 803(a) of the Native Americans Programs Act of 1974, as amended, 42 U.S.C. 2991b.)

Project Summary: Provide a summary of the Project Description (a page or less) with reference to the funding request. (Legal authority: Sections 803(a) of the Native Americans Programs Act of 1974, as amended, 42 U.S.C. 2991b.)

Objectives and Need for Assistance: Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the Project Description, the applicant should provide information on the total range of projects currently being conducted and supported (or to be initiated) to ensure they are within the scope of the program announcement. (Legal authority: Sections 803(a) of the Native Americans Programs Act of 1974, as amended, 42 U.S.C. 2991b.)

Results or Benefits Expected: Identify the results and benefits to be derived by the community and its members. For example, applicants are encouraged to describe the qualitative and quantitative data collected, how this data will measure progress towards the stated results or benefits, and how performance indicators under economic and social development and governance projects can be monitored, evaluated and verified. (Legal authority: Sections 803(a) of the Native Americans Programs Act of 1974, as amended, 42 U.S.C. 2991b.)

Approach: Outline a plan of action that describes the scope and detail of how the proposed work will be accomplished. Account for all functions or activities identified in the application. Cite factors, which might accelerate or decelerate the work and state your reason for taking the proposed approach rather than others. Describe any unusual features of the project such as design or technological innovations, reductions in cost or time, extraordinary social and community involvement or ease of project replication by other tribes and Native organizations. List organizations, cooperating entities, consultants, or other key individuals who will work on the project along with a short description of the nature of their effort or contribution. Provide quantitative monthly or quarterly projections of the accomplishments to be achieved for each function or activity in such terms as the number of people served and the number of activities accomplished. Examples of these activities would be the number of businesses started or expanded, the number of jobs created or retained, the number of people trained, the number of youth, couples or families assisted or the number elders participating in the activity during that reporting period. When accomplishments cannot be quantified by activity or function, list them in chronological order to show the dates and schedule of accomplishments. List organizations, cooperating entities, consultants, or other key individuals who will work on the project, as well as a short description of the nature of their effort or contribution. (Legal authority: Sections 803(a) of the Native Americans Programs Act of 1974, as amended, 42 U.S.C. 2991b.)

Organizational Profiles: Provide information on the applicant organization(s) and cooperating partners with organizational charts, financial statements, audit reports or statements from CPA/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission. (Legal authority: Sections 803(a) of the Native Americans Programs Act of 1974, as amended, 42 U.S.C. 2991b.)

Third-Party Agreements: Include written agreements between grantees and sub grantees or subcontractors or other cooperating entities. These agreements must detail scope of work to be performed, work schedules, remuneration, and other terms and conditions that structure or define the relationship. (Legal authority: Sections 803(a) of the Native Americans Programs Act of 1974, as amended, 42 U.S.C. 2991b.)

Budget and Budget Justification: Provide line item detail and detailed calculations for each budget object class identified on the Budget Information form. Detailed calculations must include estimation methods, quantities, unit costs, and other similar quantitative detail sufficient for the calculation to be duplicated. The detailed budget must also include a breakout by the funding sources identified in Block 15 of the SF-424. Provide a narrative budget justification that describes how the categorical costs are derived. Discuss the necessity, reasonableness, and allow ability of the proposed costs. (Legal authority: Sections 803(a) of the Native Americans Programs Act of 1974, as amended, 42 U.S.C. 2991b)

Additional Information: The following are requests for additional information that needs to be included in the application: Any non-profit organization submitting an application must submit proof of its non-profit status in the application at the time of submission. The non-profit organization shall submit one of the following verifiable documents: (a) A copy of the applicant's listing in the Internal Revenue Service's (IRS) most recent list of tax exempt organizations described in Section 501(c)(3) of the IRS code, or (b) providing a copy of the currently valid IRS tax exemption certificate, or (c) providing a copy of the articles of incorporation bearing the seal of the State or federally-recognized Tribe in which the corporation or association is domiciled. Organizations incorporating in American Samoa are cautioned that the Samoan government relies exclusively upon IRS determinations of non-profit status; therefore, articles of incorporation approved by the Samoan government do not establish non-profit status for the purpose of ANA program eligibility. (Legal authority: Sections 803(a) of the Native Americans Programs Act of 1974, as amended, 42 U.S.C. 2991b.)

General: The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: first column, object class categories; second column, Federal budget; next column(s), non-Federal budget(s); and last column, total budget. The budget justification should be a narrative.

• Personnel: The description of the costs of employee salaries and wages. Identify the project director or principal investigator, if known. For each staff person, provide the title, time commitment to the project (in months), or time commitment to the project (as a percentage or full-time equivalent), annual salary, grant salary, wage rates, etc. Do not include the costs of consultants or personnel costs of delegate agencies or of specific project(s) or businesses to be financed by the applicant.

• Fringe Benefits: Costs of employee fringe benefits unless treated as part of an approved indirect cost rate. Provide a breakdown of the amounts and percentages that comprise fringe benefit costs such as health insurance, FICA, retirement insurance, taxes, etc.

• Travel: Costs of project-related travel by employees of the applicant organization (does not include costs of consultant travel). Justification: For each trip, show the total number of traveler(s), travel destination, duration of trip, per diem, mileage allowances, if privately owned vehicles will be used, and other transportation costs and subsistence allowances. Travel costs for key staff to attend ACF-sponsored workshops should be detailed in the budget.

• Equipment: Equipment means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.). Justification: For each type of equipment requested, provide a description of the equipment, the cost per unit, the number of units, the total cost, and a plan for use on the project, as well as use or disposal of the equipment after the project ends. An applicant organization that uses its own definition for equipment should provide a copy of its policy or section of its policy, which includes the equipment definition.

• Supplies: Costs of all tangible personal property other than that included under the Equipment category. Justification: Specify general categories of supplies and their costs. Show computations and provide other information that supports the amount requested.

• Contractual: Costs of all contracts for services and goods except for those, which belong under other categories such as equipment, supplies, construction, etc. Third-party evaluation contracts (if applicable) and contracts with secondary recipient organizations, including delegate agencies and specific project(s) or businesses to be financed by the applicant, should be included under this category. Justification: All procurement transactions shall be conducted in a manner to provide, to the maximum extent practical, open and free competition. Recipients and sub-recipients, other than States that are required to use Part 92 procedures, must justify any anticipated procurement action that is expected to be awarded without competition (sole source) and exceed the simplified acquisition threshold fixed at 41 U.S.C. 403(11) (currently set at $100,000.). Recipients may be required to make available to ANA pre-award review and procurement documents, such as request for proposals or invitations for bids, independent cost estimates, etc. Note: Whenever the applicant intends to delegate part of the project to another agency, the applicant must provide a detailed budget and budget narrative for each delegate agency, by agency title, along with the required supporting information referred to in these instructions.

• Other: Enter the total of all other costs. Such costs, where applicable and appropriate, may include but are not limited to insurance, food, medical and dental costs (noncontractual), professional services costs, space and equipment rentals, printing and publication, computer use, training costs, such as tuition and stipends, staff development costs, and administrative costs. Justification: Provide computations, a narrative description, and a justification for each cost under this category.

• Indirect Charges: Total amount of indirect costs. This category should be used only when the applicant currently has an indirect cost rate approved by the Department of the Interior, Department of Labor, the Department of Health and Human Services (HHS), or other Federal agency. Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed.

• Program Income: The estimated amount of income, if any, expected to be generated from this project. Justification: Describe the nature, source, and anticipated use of program income in the budget or refer to the pages in the application, which contain this information.

• Non-Federal Resources: Amounts of non-Federal resources that will be used to support the project as identified in Block 15 of the SF-424. Justification: The firm commitment of these resources must be documented and submitted with the application in order to be given credit in the review process. A detailed budget must be prepared for each budget period.

• Total Direct Charges, Total Indirect Charges, and Total Project Costs (Legal authority: Sections 803(a) of the Native Americans Programs Act of 1974, as amended, 42 U.S.C. 2991b.)

Evaluation Criteria

Criteria One: Approach (25 Points)

The applicant should provide a Project Description with objectives and discuss the project approach and the implementation plan. The Applicant's narrative should be clear and concise. It should include a logical breakdown of the project, and discuss in detail the strategy and approach the applicant intends to employ in order to accomplish the project objectives and activities over the project period.

In this section, the applicant should describe the project strategy using the Objective Work Plan (OWP). In the OWP, the applicant should identify the project objectives, time frames, proposed activities, outcomes, and evaluation activity, as well as the individuals responsible for completing the objectives and performing the activities. The project description, objective(s), approach, strategy and implementation plan are inter-related. (Legal authority: Sections 803(a) of the Native Americans Programs Act of 1974, as amended, 42 U.S.C. 2991b.)

The applicant should also include the names and activities of any organizations, consultants, or other key individuals who will contribute to the project. The Applicant should discuss “Leveraged Resources” (see Definitions) used to strengthen and broaden the impact of the proposed project. The Applicant should discuss commitments and how they impact the project. Applicant should provide “Letters of Commitment” that identify the time, dollar amount, and activity to be accomplished through partnerships. The applicant should discuss the relationship of non-ANA funded activities to those objectives and activities that will be funded with ANA grant funds. (Letters of Commitment should be included in the appendix). (Legal authority: Sections 803(a) of the Native Americans Programs Act of 1974, as amended, 42 U.S.C. 2991b.)

Criteria Two: Objectives and Need for Assistance (20 Points)

Discuss the Need for Assistance. The need for assistance should clearly identify the physical, economic, social, financial, and institutional challenges and problem(s) requiring a solution that supports the funding request. (Legal authority: Sections 803(a) of the Native Americans Programs Act of 1974, as amended, 42 U.S.C. 2991b.)

Describe the Community (see Definitions) to be impacted by the project and the Community Involvement in the project. The Applicant should describe the community's long-range goals, and how the project supports these community goals. The applicant describes the planning and/or consultation efforts undertaken, and the proposed objectives and activities that reflect either the economic and social development or governance needs of the local community. Discuss the Geographic Location of the project and where the project and grant will be administered. (Legal authority: Sections 803(a) of the Native Americans Programs Act of 1974, as amended, 42 U.S.C. 2991b.)

Applications from National American Indian and Native American organizations should demonstrate a need for the project, explain how the project originated, and discuss the community-based program delivery strategy of the project, identify and describe the intended beneficiaries, and specifically address how this project will benefit the recipients. Applicant should show a clear relationship between the proposed project, the social and economic development strategy, and the community's long-range goals. (Legal authority: Sections 803(a) of the Native Americans Programs Act of 1974, as amended, 42 U.S.C. 2991b.)

Criteria Three: Organizational Profiles (20 Points)

Provide information on the applicant's organization and cooperating partners. Include organizational charts, and information associated with experience in the program area. Describe the organizations capabilities such as the management structure, the administrative structure, and the program delivery process. If relevant to the project, applicants must provide a Business Plan or any Third-Party Agreements (include in the appendix section of the application). (Legal authority: Sections 803(a) of the Native Americans Programs Act of 1974, as amended, 42 U.S.C. 2991b.)

Applicants are required to make a positive statement that they will give credit to the Administration for Native Americans, and reference the ANA funded project on any audio, video, and/or printed materials developed in whole or in part with ANA funds. (Legal authority: Sections 803(a) of the Native Americans Programs Act of 1974, as amended, 42 U.S.C. 2991b.)

If the applicant has audit exceptions, these issues should be addressed. (Applicants should list all current sources of federal funding, the agency, purpose, amount, and provide the most recent certified signed audit letter for the organization to be included in Part I of the application). (Legal authority: Sections 803(a) of the Native Americans Programs Act of 1974, as amended, 42 U.S.C. 2991b.)

Applicants should provide evidence of its ability to successfully manage a project of similar scope. Applicant should provide “staffing and position data”. This is a proposed staffing pattern for the project where the applicant highlights the new project and staff. All positions proposed for the project are the same positions discussed in the Objective Work Plan and in the proposed budget. Applicant should provide a paragraph of the duties and skills required for the proposed staff and a paragraph on qualifications and experience of current staff (Full position descriptions are required to be submitted and must be included in the appendix). Applicant should explain and discuss how the current and future staff will manage the proposed project. (Legal authority: Sections 803(a) of the Native Americans Programs Act of 1974, as amended, 42 U.S.C. 2991b.)

Note: Applicants are strongly encouraged to give preference to qualified Native Americans in hiring project staff and in contracting services under an approved ANA grant. (Legal authority: Sections 803B(c)(6) of the Native Americans Programs Act of 1974, as amended, 42 U.S.C. 2991b-2.)

Criteria Four: Results or Benefits Expected (20 Points)

In this section the applicant should discuss the “Performance Indicators” (see Definitions) and the Benefits Expected as a result of this Project. Performance indicators specifically identify qualitative and quantitative data directly associated with the project. Each applicant must have five indicators to support the applicant's project. Three of the performance indicators should be selected from the list below. Each grantee is required to develop two additional indicators that are project specific and directly support the success of the project objectives and goals. Each performance indicator should be discussed in the application, as well as the method for collecting the data and evaluating the project. Performance indicators will be reported to ANA in the grantee's quarterly report. Three of the five Performance indicators required, should selected from the following list: (1) The number of jobs created; (2) the number of workshops/classes provided; (3) the number of people to successfully complete a workshop/class; (4) the number of community-based small businesses established or expanded; (5) identify the tribal or village government business, industry, energy or financial codes or ordinances that were adopted; and (6) the number of children, youth, families or elders assisted. (Legal authority: Sections 803(a) of the Native Americans Programs Act of 1974, as amended, 42 U.S.C. 2991b.)

In this section discuss how the applicant will determine the success of the individual project components and the project as a whole. The applicant should describe how the success of the project would be evaluated and verified by an independent program monitoring and evaluation team. Applicant should provide a narrative on the specific performance indicators that can be analyzed, measured, monitored, and evaluated. For example, if requesting funds for a conference, workshop, or an educational activity, the applicant should discuss the value and long-term impact to the recipient and the community and discuss how the information has an impact on the project goals. What will the participants gain by attending the activity and how the knowledge, training, and skills gained, will improve the lives of children and families. Relate these performance indicators to the project goals, objectives, and outcomes. (Legal authority: Sections 803(a) of the Native Americans Programs Act of 1974, as amended, 42 U.S.C. 2991b.)

The applicant should discuss how the project will be sustainable or how the resulting product will be used to further the community's needs, goals, and objectives. (Legal authority: Sections 803(a) of the Native Americans Programs Act of 1974, as amended, 42 U.S.C. 2991b.)

Applicants should discuss and present objectives and goals to be achieved and evaluated at the end of each budget period. Project objectives support the identified need and should be measurable. (Legal authority: Sections 803(a) of the Native Americans Programs Act of 1974, as amended, 42 U.S.C. 2991b.)

Criteria Five: Budget and Budget Justification/ Cost Effectiveness ( 5/5 Points)

An applicant must submit an itemized budget detailing the applicant's Federal and non-Federal share with source(s) of funding cited. The applicant should provide a detailed line item Federal and Non-Federal share budget by year for each year of project funds requested. A budget narrative describing the line item budget should be attached for each year of project funds requested. The budget should include a line item justification for each Object Class Category listed under Section B—“Budget Categories” of the “Budget Information-Non Construction Programs on the SF 424A form. The budget should include the necessary details to facilitate the determination of allowable costs and the relevance of these costs to the proposed project. Up to five points will be awarded for the budget and budget justification. Up to an additional five points will be added to the applicant's score based on the demonstration of an effective cost-benefit relationship for the proposed project. This criterion reflects ANA's concern with ensuring that the expenditure of its limited resources yields the greatest benefit possible in achieving the economic and social self-sufficiency for Native American communities. (Legal authority: Sections 803(a) of the Native Americans Programs Act of 1974, as amended, 42 U.S.C. 2991b.)

Applicant should explain how the project components, not funded by ANA will be financed through other resources. The applicant is required to describe any specific financial circumstances, which may impact the project, such as any monetary or land settlements made to the applicant, and any restrictions on the use of those settlements. When the applicant appears to have other resources to support the proposed project and chooses not to use them, the applicant should explain why it is seeking ANA funds and not utilizing its available resources to support the project. (Legal authority: Sections 803(a) of the Native Americans Programs Act of 1974, as amended, 42 U.S.C. 2991b.)

The non-federal budget share should identify the source and be supported by letters of commitment (see Definitions). Letters of commitment are binding when they specifically state the nature, the amount, and conditions under which another agency or organization will support a project funded with ANA funds. These resources may be human, natural, or financial, and may include other Federal and non-Federal resources. For example, a letter from another Federal agency or foundation pledging a commitment of $200,000 in construction funding to complement proposed ANA funded pre-construction activity is evidence of a firm funding commitment. Statements that additional funding will be sought from other specific sources are not considered a binding commitment of outside resources. Letters of Support merely express another organization's endorsement of a proposed project. Support letters are not binding commitment letters. They do not factually establish the authenticity of other resources and do not offer or bind specific resources to the project. (Legal authority: Sections 803(a) of the Native Americans Programs Act of 1974, as amended, 42 U.S.C. 2991b.)

If an applicant plans to charge or otherwise seek credit for indirect costs in its ANA application, a current copy of its Indirect Cost Rate Agreement should be included in the application, with all cost broken down by category so ANA reviewers can determine what is included in the indirect cost pool. (Legal authority: Sections 803(a) of the Native Americans Programs Act of 1974, as amended, 42 U.S.C. 2991b.)

The budget includes sufficient funds for principal representatives, such as the chief financial officer or project director from the applicant organization to travel to one ANA post-award grant training and technical assistance workshop. This expenditure is mandatory for new grant recipients and optional for grantees that have had previous ANA grant awards. Applicants may also include costs to travel to an ANA grantee conference. (Legal authority: Sections 803(a) of the Native Americans Programs Act of 1974, as amended, 42 U.S.C. 2991b.)

For business development projects, the proposal should demonstrate that the expected return on the ANA funds used to develop the project will provide a reasonable operating income and investment return within a specified time period. If a profit-making venture is being proposed, profits should be reinvested in the business in order to decrease or eliminate ANA's future participation. Such revenue should be reported as general program income. A decision will be made at the time of the grant award regarding appropriate use of program income. (See 45 CFR part 74 and part 92). (Legal authority: Sections 803(a) of the Native Americans Programs Act of 1974, as amended, 42 U.S.C. 2991b.)

Criteria Six: Project Introduction and Summary/Abstract (5 Points)

The applicant should provide a Project Introduction. The Introduction will provide the reader an overview and some details of the proposed project. This is where the project is introduced to the peer review panel. Identify the name of the applicant, location of the community to be served by the proposed project, the project activities, amount requested, amount of matching funds to be provided, the length of time required to accomplish the project, and the outcomes or outputs to be achieved. (Legal authority: Sections 803(a) of the Native Americans Programs Act of 1974, as amended, 42 U.S.C. 2991b.)

Review and Selection Process

Initial Screening: Each application submitted under this program announcement will undergo a pre-review screening to determine if (a) the application was received by the Program Announcement closing date; (b) the application was submitted in accordance with Section VI, “Application Submission Requirements”; (c) the applicant is eligible for funding in accordance with Section I of this program announcement; (d) the applicant has submitted the proper support documentation such as proof of non-profit status, resolutions, and required government forms; and (e) an authorized representative has signed the application. An application that does not meet one of the above elements will be excluded from the competitive review process. Ineligible applicant will be notified by mail within 30 business days from the closing date of this program announcement. ANA staff cannot respond to requests for information regarding funding decisions prior to the official applicant notification. After the Commissioner has made decisions on all applications, unsuccessful applicants will be notified in writing within 90 days. Applicants are not ranked based on general financial need. Applicants, who are initially excluded from competition because of ineligibility, may appeal the decision. Likewise, applicants may also appeal an ANA decision that an applicant's proposed activities are ineligible for funding consideration. The appeals process is stated in the final rule published in the Federal Register on August 19, 1996 (61 FR 42817 and 45 CFR part 1336, subpart C). (Legal authority: Sections 803(a) of the Native Americans Programs Act of 1974, as amended, 42 U.S.C. 2991b.)

Competitive Review Process: Applications that pass the initial screening process will be analyzed, evaluated and rated by an independent review panel on the basis of the evaluation criteria specified below. The evaluation criteria were designed to analyze and assess the quality of a proposed community-based project, the likelihood of its success, and the ability to monitor and evaluate community impact and long-term results. The evaluation criteria and analysis are closely related and are wholly considered in judging the overall quality of an application. Applications will be evaluated in accordance with the program announcement criteria and ANA's program areas of interest. An evaluation is made if the project presented is an effective use of federal funds. (Legal authority: Sections 803(a) of the Native Americans Programs Act of 1974, as amended, 42 U.S.C. 2991b.)

Application Review Criteria: ANA has expanded the review criteria to allow for a more equitable distribution of points during the application review and competition process. ANA will improve the competitive review process through the use of six criteria that will evenly distribute evaluation points. The use of six criteria will standardize the review of each application and distribute the number of points more equitably. Based on the ACF Uniform Project Description, ANA's criteria categories are Project Introduction; Objectives and Need for Assistance; Project Approach; Organizational Capacity; Results and Benefits Expected; and Budget and Budget Narrative. (Legal authority: Sections 803(a) of the Native Americans Programs Act of 1974, as amended, 42 U.S.C. 2991b)

ANA has a policy of not funding duplicative projects or allowing any one community to receive a disproportionate share of the funds available for award. When making decisions on awards of grants the Agency will consider whether the project is essentially identical or similar, in whole or significant part, to projects in the same community previously funded or being funded under the same competition. The Agency will also consider whether the grantee is already receiving funding for a SEDS project or for another project from ANA. The Agency will also take into account in making funding decisions whether a proposed project would require funding on a indefinite or recurring basis.

Application Consideration: The Commissioner's funding decision is based on an analysis of the application by the review panel, the panel review scores, recommendations of the ANA staff, comments of State and Federal agencies having contract and grant performance related information, and other interested parties. The Commissioner makes grant awards consistent with the purpose of the Native American Programs Act (NAPA), all relevant statutory and regulatory requirements, this program announcement, and the availability of appropriated funds.

The Commissioner reserves the right to award more, or less, than the funds described or under such circumstances as may be deemed to be in the best interest of the federal government. Applicants may be required to reduce the scope of projects based on the amount of approved award.

VI. Award Administration Information

Anticipated Announcement and Award Dates: 120 days after the due date of applications.

Award Notices: 120 days after the due date of applications.

Administrative and National Policy Requirements: 45 CFR part 74 and 45 CFR part 92 and 45 CFR part 1336, subpart C and 42 U.S.C. 2991 et seq.—Native American Programs Act of 1974;

Reporting Requirements:

Programmatic Reports: Quarterly.

Financial Reports: Quarterly.

Special Reporting Requirements: An original and two copies of each performance report and financial status report must be submitted to the Grants Officer. Failure to submit these reports when required will mean the grantee is non-compliant with the terms and conditions of the grant award and subject to administrative action or termination. Performance reports are submitted 30 days after each quarter (3-month intervals) of the project period. The final performance report, due 90 days after the project period end date, shall cover grantee performance during the entire project period. All grantees shall use the SF 269 (Long Form) to report the status of funds. Grantees shall submit quarterly Financial Status Reports that shall be due 30 days after the end of each quarter of each budget period. The final report shall be due 90 days after the end of the project period. (Legal authority: Sections 803(a) of the Native Americans Programs Act of 1974, as amended, 42 U.S.C. 2991b; 45 CFR 74.51 and 74.52; 45 CFR 92.40 and 92.41)

VII. Agency Contacts

Program Office Contact: ANA Applicant Help Desk at 202-690-7776 or toll free at 1-877-922-9262.

Grants Management Office Contact: Lois B. Hodge, 370 L'Enfant Promenade, SW., Aerospace Building 8th Floor-West, Washington, DC 20447-0002, Telephone: (202) 401-2344, E-mail: Lhodge@acf.dhhs.gov.

VIII. Other Information

Training and Technical Assistance: All potential ANA applicants are eligible to receive free T&TA in the SEDS, Language, or Environmental program areas. Prospective applicants should check ANA's web site for training and technical assistance dates and locations, or contact the ANA Applicant Help Desk at 1-877-922-9262. Due to the new application and program additions and modifications, ANA strongly encourages all prospective applicants to participate in free pre-application training. (Legal authority: Sections 804 of the Native Americans Programs Act of 1974, as amended, 42 U.S.C. 2991c)

Paperwork Reduction Act of 1995 (Public Law 104-13): Under the Paperwork Reduction Act of 1995, Public Law 104-13, the Department is required to submit to the Office of Management and Budget (OMB) for review and approval of any reporting and record keeping requirements in regulations including program announcements. This program announcement does not contain information collection requirements beyond those approved for ANA grant applications under the Program Narrative Statement by OMB (Approval Number 0980-0204).

Assurances and Certifications and Standard Application Forms

Blank Federal Forms may be photocopied. Forms are also available electronically from the following Web site: http://www.acf.hhs.gov/programs/ofs/form.htm.

• SF-424A, Budget Information—Non construction Programs

• SF-424B, Assurances—Non construction Programs

• Non-Federal Share Waiver Request, per CFR 1336.50(b)

• Disclosure of Lobbying Activities—as revised by OMB in January 1996 to reflect the Lobbying Disclosure Act of 1995

• Certification Regarding Lobbying

• Certification Regarding Drug-Free Workplace Requirements

• Certification Regarding Environmental Tobacco Smoke

• Certification Regarding Maintenance of Effort

• Certification Regarding Debarment, Suspension and Other Responsibility Matters—Primary Covered Transactions

• Certification Regarding Debarment, Suspension, Ineligibility and Voluntary Exclusion—Lower Tier Covered Transactions

Paperwork Reduction Act

This notice does not create any reporting or record keeping requirements requiring OMB clearance.

Dated: October 31, 2003.
Sheila K. Cooper,
Director of Program Operations, Administration for Native Americans.

[FR Doc. 03-28443 Filed 11-13-03; 8:45 am]

BILLING CODE 4184-01-P